DEPARTMENT OF THE TREASURY

Privacy Act of 1974; System of Records

AGENCY: Bureau of the Fiscal Service, Department of the Treasury.

ACTION: Notice of Systems of Records.

SUMMARY: In accordance with the requirements of the Privacy Act of 1974, the Department of the Treasury, Bureau of the Fiscal Service is publishing its inventory of Privacy Act systems of records.

DATES: Submit comments on or before March 30, 2020. The new routine uses will be applicable on March 30, 2020 unless Treasury receives comments and determines that changes to the system of records notice are necessary.

ADDRESSES: David J. Ambrose, Chief Security Officer/Chief Privacy Officer, Bureau of the Fiscal Service, 3201 Pennsy Drive, Warehouse “E”, Landover, MD 20785.

FOR FURTHER INFORMATION CONTACT: David J. Ambrose, Chief Security Officer/Chief Privacy Officer, Bureau of the Fiscal Service, 202-874-6488.

SUPPLEMENTARY INFORMATION: In accordance with the Privacy Act of 1974, 5 U.S.C. 552a, and the Office of Management and Budget (OMB), Circular No. A-108, the Department of the Treasury, Bureau of the Fiscal Service has completed a review of its Privacy Act systems of records notices to identify changes that will more accurately describe these records and is publishing an inventory of them.

On October 7, 2012, the Secretary of the Treasury issued Treasury Order 136-01, establishing within the Department of the Treasury (“Department”) the Bureau of the Fiscal Service (“Fiscal Service”). The new bureau consolidated the bureaus formerly known as the Financial Management Service (“FMS”) and the Bureau of the Public Debt (“BPD”). Treasury Order 136-01 was published in the Federal Register on May 24, 2013 (78 FR 31629). Fiscal Service is consolidating both legacy bureau's systems of records into a new set of SORNs under the Fiscal Service name.¹

¹ BPD last published its systems of records in their entirety on August 17, 2011, at 76 FR 51128. FMS last published its systems of records in their entirety on October 15, 2012, at 77 FR 62602. Since consolidation, Fiscal Service published two additional systems of records: (1) Do Not Pay Payment Verification Records, published on December 9, 2013, at 78 FR 73923; and (2) OneVoice Customer Relationship Management, published on September 19, 2014, at 79 FR 56433.

In some instances, FMS and BPD's SORNs have been renumbered. In other cases, parts of the legacy bureaus' SORNs were combined into one or more SORNs. No SORN was rescinded in its entirety.

Fiscal Service's SORNs are derived as follows:

Systems of records notice .001 (Administrative Records) is derived from FMS system of records notice .001 (Administrative Records) and BPD system of records notice .001 (Human Resources and Administrative Records).

System of records notice .002 (Payment Records) is derived from FMS system of records notice .002 (Payment Records—Treasury/FMS).

System of records notice .003 (Claims and Inquiry Records on Treasury Checks, and International Claimants) is derived from FMS system of records notice .003 (Claims and Inquiry Records on Treasury Checks, and International Claimants).

System of records notice .004 (Education and Training Records) is derived from BPD system of records notice .001 (Human Resources and Administrative Records) and FMS system of records notice .004 (Education and Training Records).

System of records notice .005 (Fiscal Service Personnel Records) is derived from BPD system of records notice .001 (Human Resources and Administrative Records) and FMS system of records notice .005 (FMS Personnel Records).

System of records notice .006 (Employee Assistance Records) is derived from BPD system of records notice .005 (Employee Assistance Records).

System of records notice .007 (Direct Deposit Enrollment Records) is derived from FMS system of records notice .006 (Direct Deposit Enrollment Records).

System of records notice .008 (Mailing List Records) is derived from FMS system of records notice .008 (Mailing List Records—Treasury/FMS).

System of records notice .009 (Delegations and Designations of Authority for Disbursing Functions) is derived from FMS system of records notice .010 (Records of Accountable Offices' Authority with Treasury).

System of records notice .010 (Pre-complaint Counseling and Complaint Activities) is derived from FMS system of records notice .012 (Pre-Complaint Counseling and Complaint Activities).

System of records notice .011 (Gifts to the United States) is derived from FMS system of records notice .013 (Gifts to the United States).

System of records notice .012 (Debt Collection Operations System) is derived from FMS system of records notice .014 (Debt Collection Operations System).

System of records notice .013 (Collections Records) is derived from FMS system of records notice .017 (Collections Records).

System of records notice .014 (United States Securities and Access) is derived from BPD systems of records notices .002 (United States Savings-Type Securities), .003 (United States Securities (Other than Savings-Type Securities)), and .008 (Retail Treasury Securities Access Application).

System of records notice .015 (Physical Access Control System) is derived from BPD system of records notice .004 (Controlled Access Security System).

System of records notice .016 (Health Unit Records) is derived from BPD system of records notice .006 (Health Service Program Records).

System of records notice .017 (Do Not Pay Payment Verification Records) is derived from Fiscal Service system of records notice .023 (Do Not Pay Payment Verification Records—Department of the Treasury/Bureau of the Fiscal Service).

System of records notice .018 (OneVoice Customer Relationship Management) is derived from Fiscal Service system of records notice .024 (OneVoice Customer Relationship Management—Department of the Treasury/Bureau of the Fiscal Service).

System of records notice .019 (Gifts to Reduce the Public Debt) is derived from BPD system of records notice .007 (Gifts to Reduce the Public Debt).

System of records notice .020 (U.S. Treasury Securities Fraud Information System) is derived from BPD system of records notice .009 (U.S. Treasury Securities Fraud Information System).

Fiscal Service is adding one routine use to all of the systems of records to share information with other federal agencies or federal entities as required by OMB Memorandum 17-12, “Preparing for and Responding to a Breach of Personally Identifiable Information,” dated January 3, 2017, to assist Treasury/Fiscal Service in responding to a suspected or confirmed breach or prevent, minimize, or remedy the risk of harm to the requesters, Treasury/Fiscal Service, the Federal Government, or national security.

Fiscal Service also slightly expanded the scope of SORN .003 (Claims and Inquiry Records on Treasury Checks, and International Claimants) to cover payments that will be made pursuant to the Guam World War II Loyalty Recognition Act, Public Law 114-328, Title XVII. This change is consistent with the purpose of the SORN and many other payments made pursuant to similar statutes and requirements.

In addition to the changes noted above, this notice updates some of the system of records notices, changes references in the systems of records notices, and makes other administrative changes to reflect the consolidation into the Fiscal Service, such as updating the procedures for gaining access to, or contesting the contents of, records in these systems of records.

This notice covers all systems of records adopted by the Fiscal Service as of February 27, 2020. The system notices are reprinted in their entirety following the Table of Contents.

Ryan Law,
Deputy Assistant Secretary for Privacy, Transparency, & Records.

Table of Contents

Fiscal Service

TREASURY/Fiscal Service .001—Administrative Records

TREASURY/Fiscal Service .002—Payment Records

TREASURY/Fiscal Service .003—Claims and Inquiry Records on Treasury Checks, and International Claimants

TREASURY/Fiscal Service .004—Education and Training Records

TREASURY/Fiscal Service .005—Fiscal Service Personnel Records

TREASURY/Fiscal Service .006—Employee Assistance Records

TREASURY/Fiscal Service .007—Direct Deposit Enrollment Records

TREASURY/Fiscal Service .008—Mailing List Records

TREASURY/Fiscal Service .009—Delegations and Designations of Authority for Disbursing Functions

TREASURY/Fiscal Service .010—Pre-complaint Counseling and Complaint Activities

TREASURY/Fiscal Service .011—Gifts to the United States

TREASURY/Fiscal Service .012—Debt Collection Operations System

TREASURY/Fiscal Service .013—Collections Records

TREASURY/Fiscal Service .014—United States Securities and Access

TREASURY/Fiscal Service .015—Physical Access Control System

TREASURY/Fiscal Service .016—Health Unit Records

TREASURY/Fiscal Service .017—Do Not Pay Payment Verification Records

TREASURY/Fiscal Service .018—OneVoice Customer Relationship Management

TREASURY/Fiscal Service .019—Gifts to Reduce the Public Debt

TREASURY/Fiscal Service .020—U.S. Treasury Securities Fraud Information System

Treasury/Fiscal Service .001

SYSTEM NAME AND NUMBER:

Department of the Treasury, Bureau of the Fiscal Service .001—Administrative Records.

SECURITY CLASSIFICATION:

Information in this system is not classified.

SYSTEM LOCATION:

Bureau of the Fiscal Service, U.S. Department of the Treasury, 3201 Pennsy Drive, Warehouse “E”, Landover, MD 20785.

SYSTEM MANAGER(S):

(1) For Retiree Mailing Records: Legislative and Public Affairs, Bureau of the Fiscal Service, 3201 Pennsy Drive, Warehouse “E”, Landover, MD 20785; and

(2) For all other records: Assistant Commissioner, Office of Management, Bureau of the Fiscal Service, 3201 Pennsy Drive, Warehouse “E”, Landover, MD 20785.

AUTHORITY FOR MAINTENANCE OF THE SYSTEM:

5 U.S.C. 301; 40 U.S.C. 581.

PURPOSE(S) OF THE SYSTEM:

Information in this system of records is collected and maintained about Fiscal Service employees, their relocating family members, contract vendors, retirees and other individuals if: (1) The Fiscal Service has incurred obligations on their behalf; (2) the individual has requested mailings from Fiscal Service or other Treasury publications; (3) the individual has a parking permit issued by the Fiscal Service; (4) the individual has been involved in a motor vehicle accident that may involve the Fiscal Service; (5) the individual has engaged in certain transactions in connection with their employment with the Fiscal Service or (6) the individual is a vendor to the Fiscal Service.

The information contained in the records assists Fiscal Service in properly tracking its use of appropriated and non-appropriated funding to acquire goods and services received from contractors and other federal agencies, as well as non-payroll related reimbursements to employees. Fiscal Service maintains these records to ensure that financial records pertaining to procurement, financial management and relocation are maintained accurately. For those receiving mailings, information contained in the records assists Fiscal Service in establishing and maintaining a robust relationship with its customers, as well as maintaining its commitment to actively engage employees, even those who have retired from the Civil Service.

CATEGORIES OF INDIVIDUALS COVERED BY THE SYSTEM:

Fiscal Service employees (including current and former employees), family members of relocating Fiscal Service employees, contractors, vendors, sellers/purchasers associated with residential transactions involving certain relocating Fiscal Service employees, and individuals requesting various Treasury publications.

CATEGORIES OF RECORDS IN THE SYSTEM:

(1) Motor vehicle accident reports and parking permits;

(2) Procurement records relating to: (a) Contractors/vendors that are individuals; and (b) government purchase cardholders. These records may include, for example, the name, Social Security number and credit card number for employees who hold Government-use cards, as well as procurement integrity certificates;

(3) Financial management records that relate to government travel, vendor accounts, other employee reimbursements, interagency transactions, employee pay records, vendor registration data, purchase card accounts and transactions, and program payment agreements;

(4) Relocation records that relate to employee relocation travel authorizations, reimbursements, and related vendor invoices;

(5) Retiree mailing records that contain the name and address furnished by Fiscal Service retirees that request mailings of newsletters and other special mailings; and

(6) Distribution Lists of Individuals Requesting Various Treasury Publications.

RECORD SOURCE CATEGORIES:

Information in this system of records is provided by Fiscal Service personnel, contractors/vendors or individuals requesting Treasury publications.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) General Services Administration for driver's permits, parking permits, accident reports, and credentials;

(2) Government Accountability Office or Fiscal Service contractors for servicing the public on Treasury publications and managing subscriptions to the appropriate publications;

(3) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(4) The Office of Personnel Management, the Merit Systems Protection Board, the Equal Employment Opportunity Commission, and the Federal Labor Relations Authority upon authorized request;

(5) A federal, state, or local agency, maintaining civil, criminal or other relevant enforcement information or other pertinent information, which has requested information relevant to or necessary to the requesting agency's or the bureau's hiring or retention of an individual, or issuance of a security clearance, suitability determination, license, contract, grant, or other benefit;

(6) A court, magistrate, mediator or administrative tribunal in the course of presenting evidence, including disclosures to opposing counsel or witnesses in the course of civil discovery, litigation, or settlement negotiations, in response to a subpoena, or in connection with criminal law proceedings;

(7) Foreign governments in accordance with formal or informal international agreements;

(8) A congressional office in response to an inquiry made at the request of the individual to whom the record pertains;

(9) Contractors for the purpose of processing personnel and administrative records;

(10) Unions recognized as exclusive bargaining representatives under 5 U.S.C. Chapter 71, arbitrators, and other parties responsible for the administration of the federal labor-management program if needed in the performance of their authorized duties;

(11) Third parties during the course of an investigation to the extent necessary to obtain information pertinent to the investigation;

(12) Federal agencies, state agencies, and local agencies for tax purposes;

(13) Private creditors for the purpose of garnishing wages of an employee if a debt has been reduced to a judgment;

(14) Authorized federal and non-federal entities for use in approved computer matching efforts, limited to those data elements considered necessary in making a determination of eligibility under particular benefit programs administered by those agencies or entities, to improve program integrity, and to collect debts and other monies owed to those agencies or entities or to the Fiscal Service;

(15) Other federal agencies to effect salary or administrative offset for the purpose of collecting a debt, except that addresses obtained from the Internal Revenue Service shall not be disclosed to other agencies;

(16) Next-of-kin, voluntary guardians, and other representative or successor in interest of a deceased or incapacitated employee or former employee;

(17) Representatives of the National Archives and Records Administration (“NARA”) who are conducting records management inspections under authority of 44 U.S.C. 2904 and 2906;

(18) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm; and

(19) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records in this system are stored electronically or on paper in secure facilities in a locked drawer behind a locked door.

POLICIES AND PRACTICES FOR RETRIEVAL OF RECORDS:

Records may be retrieved by name, Social Security number, other assigned identifier, and Treasury publication.

POLICIES AND PRACTICES FOR RETENTION AND DISPOSAL OF RECORDS:

All data maintained by this Fiscal Service system of records are retained and destroyed in accordance with the Fiscal Service File Plan. All records schedules and categories within the Fiscal Service File Plan are approved by NARA.

DISCLOSURE TO CONSUMER REPORTING AGENCIES:

In accordance with section (b)(12) of the Privacy Act of 1974, as amended (5 U.S.C. 552a(b)(12)), disclosures may be made from this system of records to “consumer reporting agencies” ² in accordance with section 3711(e) of title 31. The purpose of the disclosure is to aid in the collection of outstanding debts owed to the Federal Government. After the prerequisites of 31 U.S.C. 3711 have been followed, the Fiscal Service may disclose information necessary to establish the identity of the individual responsible for the claim, including name, address, and taxpayer identification number; the amount, status, and history of the claim; and the agency or program under which the claim arose.

² “Consumer reporting agency” is defined in 31 U.S.C. 3701(a)(3).

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on August 17, 2011 (76 FR 51128) as the Department of the Treasury, Bureau of the Public Debt .001—Human Resources and Administrative Records and on October 15, 2012 (77 FR 62602) as the Department of the Treasury, Financial Management Service .001—Administrative Records.

Treasury/Fiscal Service .002

SYSTEM NAME AND NUMBER:

Department of the Treasury, Bureau of the Fiscal Service .002—Payment Records

SECURITY CLASSIFICATION:

Information in this system is not classified.

SYSTEM LOCATION:

Kansas City Regional Financial Center, Bureau of the Fiscal Service, U.S. Department of the Treasury, 4241 NE 34th Street, Kansas City, MO 64117; Bureau of the Fiscal Service, 320 Avery Street, Parkersburg, WV 26106-1328. Records are also located throughout the United States at Federal Reserve Banks and financial institutions acting as Treasury's fiscal and financial agents. The addresses of the fiscal and financial agents may be obtained from the system manager below.

SYSTEM MANAGER(S):

Chief Disbursing Officer, Assistant Commissioner, Payment Management, Bureau of the Fiscal Service, 3201 Pennsy Drive, Warehouse “E”, Landover, MD 20785.

AUTHORITY FOR MAINTENANCE OF THE SYSTEM:

5 U.S.C. 301; 31 U.S.C. 321, 3301, 3321, 3321 note, 3325, 3327, 3328, 3332, 3334, 3720.

PURPOSE(S) OF THE SYSTEM:

Information in this system of records is collected from federal government entities that are requesting disbursement of domestic and international payments to their recipients and is used to facilitate such payments.

The information will also be used for collateral purposes related to the processing of disbursements, such as collection of statistical information on operations, development of computer systems, investigation of unauthorized or fraudulent activity, and the collection of debts arising out of such activity.

CATEGORIES OF INDIVIDUALS COVERED BY THE SYSTEM:

Individuals who are the intended or actual recipients of payments disbursed by the United States Government.

CATEGORIES OF RECORDS IN THE SYSTEM:

Payment records showing a payee's name, Social Security number, employer identification number, or other agency identification or account number; date and location of birth, physical and/or electronic mailing address; telephone numbers; payment amount; date of issuance; trace number or other payment identification number, such as Treasury check number and symbol; financial institution information, including the routing number of his or her financial institution and the payee's account number at the financial institution; and vendor contract and/or purchase order number.

RECORD SOURCE CATEGORIES:

Information in this system is provided by: Federal departments and agencies responsible for certifying, disbursing, and collecting federal payments; Treasury or Fiscal Service-designated fiscal and financial agents of the United States that process payments and collections; and commercial database vendors. Each of these record sources may include information obtained from individuals.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) The banking industry for payment verification;

(2) Federal investigative agencies, Departments and agencies for whom payments are made, and payees;

(3) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(4) A federal, state, or local agency maintaining civil, criminal or other relevant enforcement information or other pertinent information, which has requested information relevant to or necessary to the requesting agency's or the bureau's hiring or retention of an individual, or issuance of a security clearance, suitability determination, license, contract, grant, or other benefit;

(5) A court, magistrate, mediator, or administrative tribunal in the course of presenting evidence, including disclosures to opposing counsel or witnesses in the course of civil discovery, litigation, or settlement negotiations, in response to a subpoena, or in connection with criminal law proceedings;

(6) Foreign governments in accordance with formal or informal international agreements;

(7) A congressional office in response to an inquiry made at the request of the individual to whom the record pertains;

(8) Unions recognized as exclusive bargaining representatives under 5 U.S.C. Chapter 71, arbitrators, and other parties responsible for the administration of the federal labor-management program if needed in the performance of their authorized duties;

(9) Third parties during the course of an investigation to the extent necessary to obtain information pertinent to the investigation;

(10) Federal creditor agencies, their employees, or their agents for the purpose of facilitating or conducting federal administrative offset, federal tax refund offset, federal salary offset, or for any other authorized debt collection purpose;

(11) Any state, territory or commonwealth of the United States, or the District of Columbia to assist in the collection of state, commonwealth, territory or District of Columbia claims pursuant to a reciprocal agreement between Fiscal Service and the state, commonwealth, territory or the District of Columbia, or pursuant to federal law that authorizes the offset of federal payments to collect delinquent obligations owed to the state, commonwealth, territory, or the District of Columbia;

(12) The Defense Manpower Data Center and the United States Postal Service and other federal agencies through authorized computer matching programs for the purpose of identifying and locating individuals who are delinquent in their repayment of debts owed to the Department or other federal agencies in order to collect those debts through salary offset and administrative offset, or by the use of other debt collection tools;

(13) A contractor of the Fiscal Service for the purpose of performing routine payment processing services, subject to the same limitations applicable to Fiscal Service officers and employees under the Privacy Act;

(14) A fiscal or financial agent of the Fiscal Service, its employees, agents, and contractors, or to a contractor of the Fiscal Service, for the purpose of ensuring the efficient administration of payment processing services, subject to the same or equivalent limitations applicable to Fiscal Service officers and employees under the Privacy Act;

(15) To appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(16) To another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(17) (a) a federal or state agency, its employees, agents (including contractors of its agents) or contractors; (b) a fiscal or financial agent designated by the Fiscal Service or other Department of the Treasury bureau or office, including employees, agents or contractors of such agent; or (c) a contractor of the Fiscal Service, for the purpose of identifying, preventing, or recouping improper payments to an applicant for, or recipient of, federal funds, including funds disbursed by a state in a state-administered, federally-funded program; disclosure may be made to conduct computerized comparisons for this purpose;

(18) Agents or contractors who have been engaged to assist the Fiscal Service in the performance of a service related to this system of records and who need to have access to the records in order to perform the activity; and

(19) Representatives of the National Archives and Records Administration (“NARA”) who are conducting records management inspections under authority of 4 U.S.C. 2904 and 2906.

POLICIES AND PRACTICES FOR STORAGE OF RECORDS IN THE SYSTEM:

Records in this system are stored electronically or on paper in secure facilities in a locked drawer behind a locked door.

POLICIES AND PRACTICES FOR RETRIEVAL OF RECORDS:

Records may be retrieved by name, Social Security number, employer identification number, agency-supplied identifier, date of payment, or trace number, or other payment identifying information, such as check number.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow procedures set forth in the regulations of the U.S. Department of the Treasury published in 31 CFR, Part 1, Subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on October 15, 2012 (77 FR 62602) as the Department of the Treasury, Financial Management Service .002—Payment Records.

Treasury/Fiscal Service .003

SYSTEM NAME AND NUMBER:

Department of the Treasury, Bureau of the Fiscal Service .003—Claims and Inquiry Records on Treasury Checks, and International Claimants.

SECURITY CLASSIFICATION:

Information in this system is not classified.

SYSTEM LOCATION:

Kansas City Regional Financial Center, Bureau of the Fiscal Service, U.S. Department of the Treasury, 4241 NE 34th Street, Kansas City, MO 64117; Bureau of the Fiscal Service, 320 Avery Street, Parkersburg, WV 26106-1328. Records are also located throughout the United States at Federal Reserve Banks and financial institutions acting as Treasury's fiscal and financial agents. The addresses of the fiscal and financial agents may be obtained from the system manager below.

SYSTEM MANAGER(S):

Chief Disbursing Officer, Assistant Commissioner, Payment Management, Bureau of the Fiscal Service, 3201 Pennsy Drive, Warehouse “E,”, Landover, MD 20785.

AUTHORITY FOR MAINTENANCE OF THE SYSTEM:

5 U.S.C. 301; Treasury check claims—15 U.S.C. 771 with delegation of authority from Comptroller General of the United States; International claims—50 U.S.C. 2012; 22 U.S.C. 1627, 1641, 1642; Public Law 114-328.

PURPOSE(S) OF THE SYSTEM:

To be the system of record for all checks issued by the U.S. Department of the Treasury and claims against these checks, including:

(1) Claims where the payee has verified they were not the endorser of the check therefore resulting in potential fraud;

(2) Claims of non-entitlement (reclamations) by agencies;

(3) Claims of non-receipt by payees;

(4) Expired checks, i.e., limited pay cancellations; and

(5) Claims for benefits under the War Claims Act, the International Claims Settlement Act of 1949, and the Guam World War II Loyalty Recognition Act.

CATEGORIES OF INDIVIDUALS COVERED BY THE SYSTEM:

(1) Payees and holders of Treasury checks; and

(2) Claimants awarded benefits under the War Claims Act, the International Claims Settlement Act of 1949, and the Guam World War II Loyalty Recognition Act.

CATEGORIES OF RECORDS IN THE SYSTEM:

(1) Treasury check claim files; and

(2) Awards for claims for losses sustained by individuals.

RECORD SOURCE CATEGORIES:

Information in this system of records is provided by:

(1) Individual payees of Treasury checks, endorsers of Treasury checks, investigative agencies, contesting claimants;

(2) Federal program agencies and other federal entities; and

(3) Awards certified to Treasury for payment by Foreign Claims Settlement Commission.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Endorsers concerning checks for which there is liability, federal agencies, state and local law enforcement agencies, General Accountability Office, congressional offices and media assistance offices on behalf of payee claimants;

(2) Appropriate federal, state, local or foreign agencies responsible for investigating or prosecuting a violation of or for enforcing or implementing a statute, rule, regulation, order, or license, when a record, either on its face or in conjunction with other information, indicates a violation or potential violation of law, which includes criminal, civil, or regulatory violations and such disclosure is proper and consistent with the official duties of the person making the disclosure;

(3) A federal, state, or local agency, maintaining civil, criminal or other relevant enforcement information or other pertinent information, which has requested information relevant or necessary to the requesting agency's or the bureau's hiring or retention of an individual, or issuance of a security clearance, suitability determination, license, contract, grant, or other benefit;

(4) A court, magistrate, mediator or administrative tribunal in the course of presenting evidence, including disclosures to opposing counsel or witnesses in the course of discovery, litigation, or settlement negotiations, in response to a subpoena, or in connection with criminal law proceedings;

(5) Foreign governments in accordance with formal or informal international agreements;

(6) A congressional office in response to an inquiry made at the request of the individual to whom the record pertains;

(7) The news media and the public, with the approval of the Chief Privacy Officer in consultation with counsel, when there exists a legitimate public interest in the disclosure of the information, when disclosure is necessary to preserve confidence in the integrity of the Fiscal Service, or when disclosure is necessary to demonstrate the accountability of Fiscal Service's officers, employees, or individuals covered by the system, except to the extent the Chief Privacy Officer determines that release of the specific information in the context of a particular issue would constitute an unwarranted invasion of personal privacy;

(8) Unions recognized as exclusive bargaining representatives under 5 U.S.C. Chapter 71, arbitrators, and other parties responsible for the administration of the federal labor-management program if needed in the performance of their authorized duties;

(9) Third parties during the course of an investigation to the extent necessary to obtain information pertinent to the investigation;

(10) The public when attempts by Fiscal Service to locate the claimant have been unsuccessful. This information is limited to the claimant's name, city, and state of last known address, and the amount owed to the claimant. (This routine use does not apply to the Iran Claims Program or the Holocaust Survivors Claims Program or other claims programs that statutorily prohibit disclosure of claimant information);

(11) Representatives of the National Archives and Records Administration (“NARA”) who are conducting records management inspections under authority of 44 U.S.C. 2904 and 2906;

(12) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(13) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach; and

(14) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

Records may be retrieved by:

(1) Name of payee and check number and symbol;

(2) Social Security number; and

(3) Name of claimant or alphanumeric reference to claim number.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on Oct. 15, 2012 (77 FR 62602) as the Department of the Treasury, Financial Management Service .003—Claims and Inquiry Records on Treasury Checks, and International Claimants.

Treasury/Fiscal Service .004

SYSTEM NAME AND NUMBER:

Department of the Treasury, Bureau of the Fiscal Service .004—Education and Training Records.

SECURITY CLASSIFICATION:

Information in this system is not classified.

SYSTEM LOCATION:

Bureau of the Fiscal Service, U.S. Department of the Treasury, 320 Avery Street, Parkersburg, WV 26106-1328.

SYSTEM MANAGER(S):

Assistant Commissioner, Office of Management, Bureau of the Fiscal Service, 3201 Pennsy Drive, Warehouse “E”, Landover, MD 20785.

AUTHORITY FOR MAINTENANCE OF THE SYSTEM:

5 U.S.C. 301; 31 U.S.C. 321; 31 U.S.C. chapter 33; 31 U.S.C. 3720.

PURPOSE(S) OF THE SYSTEM:

Information in this system of records is collected and maintained about Government employees and other individuals who participate in Fiscal Service's education and training program. The information contained in the records will assist Fiscal Service in properly tracking individual training and accurately account for training revenue and expenditures generated through the Fiscal Service's training programs (for example, Integrated Talent Management (ITM)). For Fiscal Service personnel, the records contained in Fiscal Service's training records will also assist managers' active participation in their employees' learning plans. Fiscal Service maintains the information necessary to ensure that Fiscal Service keeps accurate records related to classes, including a training participant's training and enrollment status, class completion information, and learning history. Fiscal Service also maintains the records to ensure that financial records pertaining to a training participant's payment for training fees are maintained accurately. Fiscal Service's training records will report financial information to the Internal Revenue Service and Office of Personnel Management. Finally, the information contained in the covered records will be used for collateral purposes related to the training processes, such as the collection of statistical information on training programs, development of computer systems, investigation of unauthorized or fraudulent activity related to submission of information to Fiscal Service for training program purposes and the collection of debts arising out of such activity.

CATEGORIES OF INDIVIDUALS COVERED BY THE SYSTEM:

Government employees (including separated employees, in certain cases) and other individuals who access and apply for Fiscal Service training services.

CATEGORIES OF RECORDS IN THE SYSTEM:

(1) Personal Profile—Account Record;

(2) Transcript Record;

(3) Enrollment Status Record;

(4) My Plan Record;

(5) Assessment Performance Results Record;

(6) Managerial Approval/Disapproval Status Record;

(7) Class Roster Record;

(8) Class Evaluation Record;

(9) Payment Record; and

(10) Statistical Reports—retrievable by names: (a) Learning History, (b) Class Enrollment Report, (c) Class Payment/Billing Report, (d) Status of Training Report, (e) Ad Hoc Training Report, and (f) Other Similar Files or Registers.

RECORD SOURCE CATEGORIES:

Information in this system is provided by the individual on whom the record is maintained; the individual's employer; and other governmental agency or educational institutions.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(2) A court, magistrate, mediator or administrative tribunal in the course of presenting evidence, including disclosures to opposing counsel or witnesses in the course of civil discovery, litigation, or settlement negotiations, in response to a subpoena, or in connection with criminal law proceedings;

(3) A congressional office in response to an inquiry made at the request of the individual to whom the record pertains;

(4) Federal agencies, financial institutions, and contractors for the purpose of performing fiscal services, including, but not limited to, processing payments, investigating and rectifying possible erroneous reporting information, testing and enhancing related computer systems, creating and reviewing statistics to improve the quality of services provided, or conducting debt collection services;

(5) Federal agencies, their agents and contractors for the purposes of facilitating the collection of receipts, determining the acceptable method of collection, the accounting of such receipts, and the implementation of programs related to the receipts being collected as well as status of their personnel training, statistical training information;

(6) Financial institutions, including banks and credit unions, and credit card companies for the purpose of collections and/or investigating the accuracy of information required to complete transactions using electronic methods and for administrative purposes, such as resolving questions about a transaction;

(7) Unions recognized as exclusive bargaining representatives under 5 U.S.C. Chapter 71, arbitrators, and other parties responsible for the administration of the federal labor-management program if needed in the performance of their authorized duties;

(8) Foreign governments in accordance with formal or informal international agreements;

(9) Third parties during the course of an investigation to the extent necessary to obtain information pertinent to the investigation;

(10) Federal agencies, their agents and contractors, credit bureaus, and employers of individuals who owe delinquent debt when the debt arises from the unauthorized use of electronic payment methods. The information will be used for the purpose of collecting such debt through offset, administrative wage garnishment, referral to private collection agencies, litigation, reporting the debt to credit bureaus, or for any other authorized debt collection purpose;

(11) Representatives of the National Archives and Records Administration (“NARA”) who are conducting records management inspections under authority of 44 U.S.C. 2904 and 2906;

(12) To appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(13) To another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach; and

(14) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

Electronic training data can be retrieved by class name and/or organization name and participant name. Electronic financial data can be retrieved by name, organization and payment information (e.g., credit card, Standard Form 182).

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on August 17, 2011 (76 FR 51128) as the Department of the Treasury, Bureau of the Public Debt .001—Human Resources and Administrative Records and on October 15, 2012 (77 FR 62602) as the Department of the Treasury, Financial Management Service .004—Education and Training Records.

Treasury/Fiscal Service .005

SYSTEM NAME AND NUMBER:

Department of the Treasury, Bureau of the Fiscal Service .005—Fiscal Service Personnel Records.

SECURITY CLASSIFICATION:

Information in this system is not classified.

SYSTEM LOCATION:

Bureau of the Fiscal Service, U.S. Department of the Treasury, locations at: 3201 Pennsy Drive, Warehouse “E”, Landover, MD 20785; 200 Third Street, Parkersburg, WV 26106-1328; 320 Avery Street, Parkersburg, WV 26106-1328; 4241 NE 34th Street, Kansas City, MO 64117-3120; 13000 Townsend Road, Philadelphia, PA 19154; and Fiscal Service offices in Austin, TX 78714 and Birmingham, AL. Copies of some documents have been duplicated for maintenance by supervisors for employees or programs under their supervision. These duplicates are also covered by this system of records.

SYSTEM MANAGER(S):

(1) For personnel records: Assistant Commissioner, Office of Management, Bureau of the Fiscal Service, 3201 Pennsy Drive, Warehouse “E”, Landover, MD 20785; and

(2) For personnel security records: Assistant Commissioner, Office of Information and Security Services, Bureau of the Fiscal Service, 320 Avery Street, Parkersburg, WV 26106-1328.

AUTHORITY FOR MAINTENANCE OF THE SYSTEM:

5 U.S.C. 301; U.S. Office of Personnel Management, Guide to Personnel Recordkeeping (Operating Manual).

PURPOSE(S) OF THE SYSTEM:

The information contained in these records assists Fiscal Service in: (1) Maintaining current and historical personnel records and preparing individual administrative transactions relating to classification; assignment; career development; evaluation; promotion, compensation, separation and retirement; making decisions on the rights, benefits, entitlements and the utilization of individuals; providing a data source for the production of reports, statistical surveys, rosters, documentation, and studies required for the orderly personnel administration within Treasury; (2) maintaining employment history; (3) providing investigatory information for determinations concerning whether an individual is suitable or fit for Government employment; eligible for logical and physical access to Treasury controlled facilities and information systems; eligible to hold sensitive positions (including but not limited to eligibility for access to classified information); fit to perform work for or on behalf of the U.S. Government as a contractor; qualified to perform contractor services for the U.S. Government; or loyal to the United States; (4) ensuring that Fiscal Service is upholding the highest standards of integrity, loyalty, conduct, and security among its employees and contract personnel; (5) to help streamline and make the adjudicative process more efficient; and (6) to otherwise conform with applicable legal, regulatory and policy authorities.

CATEGORIES OF INDIVIDUALS COVERED BY THE SYSTEM:

Fiscal Service employees (including current and separated employees), family members of Fiscal Service employees, and applicants for Fiscal Service employment.

CATEGORIES OF RECORDS IN THE SYSTEM:

(1) Human Resources Records: Records covered under the National Archives and Records Administration (“NARA”)'s General Records Schedule, 2.0 Human Resources, which relate to the supervision over and management of federal civilian employees, including the disposition of Official Personnel Folders and other records relating to civilian personnel; and

(2) Personnel Security Records: Records covered under the NARA General Records Schedule 2.1 Employee Acquisition Records, and 5.6 Security Records that relate to initial and recurring background investigations of Fiscal Service employee and contractors, as well as the issuance of PIV-enabled identification cards (i.e., credentials).

RECORD SOURCE CATEGORIES:

Information in this system of records is provided by applicant Notification of Personnel Action Forms (SF-50), job application/resume (completed by applicant), payroll actions references, educational institutions, the subject of the record, authorized representatives, supervisor, employers, medical personnel, other employees, other federal, state, or local agencies, and commercial entities.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(2) The Office of Personnel Management, the Merit Systems Protection Board, the Equal Employment Opportunity Commission, and the Federal Labor Relations Authority upon authorized request;

(3) Other federal, state, or local agencies, such as a state employment compensation board or housing administration agency, so that the agency may adjudicate an individual's eligibility for a benefit, or liability in such matters as child support;

(4) A federal, state, or local agency, maintaining civil, criminal or other relevant enforcement information or other pertinent information, which has requested information relevant to or necessary to the requesting agency's or the bureau's hiring or retention of an individual, or issuance of a security clearance, suitability determination, license, contract, grant, or other benefit;

(5) A court, magistrate, mediator or administrative tribunal in the course of presenting evidence, including disclosures to opposing counsel or witnesses in the course of civil discovery, litigation, or settlement negotiations, in response to a subpoena, or in connection with criminal law proceedings;

(6) Foreign governments in accordance with formal or informal international agreements;

(7) A congressional office in response to an inquiry made at the request of the individual to whom the record pertains;

(8) Contractors for the purpose of processing personnel and administrative records;

(9) Unions recognized as exclusive bargaining representatives under 5 U.S.C. Chapter 71, arbitrators, and other parties responsible for the administration of the federal labor-management program if needed in the performance of their authorized duties;

(10) Third parties during the course of an investigation to the extent necessary to obtain information pertinent to the investigation;

(11) Consumer reporting agencies, private creditors and debt collection agencies, including mailing addresses obtained from the Internal Revenue Service to obtain credit reports;

(12) Federal agencies and to state and local agencies for tax purposes;

(13) Private creditors for the purpose of garnishing wages of an employee if a debt has been reduced to a judgment;

(14) Authorized federal and non-federal entities for use in approved computer matching efforts, limited to those data elements considered necessary in making a determination of eligibility under particular benefit programs administered by those agencies or entities, to improve program integrity, and to collect debts and other monies owed to those agencies or entities or to the Fiscal Service;

(15) Other federal agencies to effect salary or administrative offset for the purpose of collecting a debt, except that addresses obtained from the Internal Revenue Service shall not be disclosed to other agencies;

(16) Next-of-kin, voluntary guardians, and other representative or successor in interest of a deceased or incapacitated employee or former employee;

(17) Representatives of the National Archives and Records Administration (“NARA”) who are conducting records management inspections under authority of 44 U.S.C. 2904 and 2906;

(18) A congressional office in response to an inquiry made at the request of the individual to whom the record pertains;

(19) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(20) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach; and

(21) Agents or contractors who have been engaged to assist the Fiscal Service in the performance of a service related to this system of records and who need to have access to the records in order to perform the activity.

DISCLOSURE TO CONSUMER REPORTING AGENCIES:

In accordance with section (b)(12) of the Privacy Act of 1974, as amended (5 U.S.C. 552a(b)(12)), disclosures may be made from this system of records to “consumer reporting agencies” ³ in accordance with section 3711(e) of title 31.” The purpose of the disclosure is to aid in the collection of outstanding debts owed to the Federal Government. After the prerequisites of 31 U.S.C. 3711 have been followed, the Fiscal Service may disclose information necessary to establish the identity of the individual responsible for the claim, including name, address, and taxpayer identification number; the amount, status, and history of the claim; and the agency or program under which the claim arose.

³ “Consumer reporting agency” is defined in 31 U.S.C. 3701(a)(3).

POLICIES AND PRACTICES FOR STORAGE OF RECORDS:

Records in this system are stored electronically or on paper in secure facilities in a locked drawer behind a locked door.

POLICIES AND PRACTICES FOR RETRIEVAL OF RECORDS:

By name, Social Security number or other assigned identifier.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on August 17, 2011 (76 FR 51128) as the Department of the Treasury, Bureau of the Public Debt .001—Human Resources and Administrative Records and on October 15, 2012 (77 FR 62602) as the Department of the Treasury, Financial Management Service .005—FMS Personnel Records.

Treasury/Fiscal Service .006

SYSTEM NAME AND NUMBER:

Department of the Treasury, Bureau of the Fiscal Service .006—Employee Assistance Records.

SECURITY CLASSIFICATION:

Information in this system is not classified.

SYSTEM LOCATION:

This system covers Fiscal Service employee assistance records that are maintained by another federal, state, local government, or contractor under an agreement with the Fiscal Service directly or through another entity to provide the Employee Assistance Program (EAP) functions. The address of the other agency or contractor may be obtained from the system manager below.

SYSTEM MANAGER(S):

Assistant Commissioner, Office of Management, Bureau of the Fiscal Service, 3201 Pennsy Drive, Warehouse “E”, Landover, MD 20785.

AUTHORITY FOR MAINTENANCE OF THE SYSTEM:

5 U.S.C. 301, 7361, 7362, 7904; 44 U.S.C. 3101.

PURPOSE(S) OF THE SYSTEM:

Information in this system of records is collected and maintained to provide a history and record of the employee's or his/her family member's counseling session.

CATEGORIES OF INDIVIDUALS COVERED BY THE SYSTEM:

Fiscal Service employees and former employees who have been counseled, either by self-referral or supervisory-referral, regarding alcohol or drug abuse, emotional health, or other personal problems. Where applicable, this system also covers family members of Fiscal Service employees when the family member uses the services of the EAP.

CATEGORIES OF RECORDS IN THE SYSTEM:

This system contains records of each employee and, in some cases, family members of the employee who have used the EAP for an alcohol, drug, emotional, or personal problem. Examples of information that may be found in each record are: The individual's name; Social Security number; date of birth; grade; job title; home address; telephone numbers; supervisor's name and telephone number; assessment of problem; and referrals to treatment facilities and outcomes.

RECORD SOURCE CATEGORIES:

Information in this system of records comes from the individual to whom it applies, the supervisor of the individual if the individual was referred by a supervisor, or the contractor's staff member who records the counseling session.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) An entity under contract with the Fiscal Service for the purpose of providing the EAP function;

(2) Medical personnel to the extent necessary to meet a bona fide medical emergency in accordance with the Confidentiality of Alcohol and Drug Abuse Patient Records regulations (42 CFR part 2);

(3) Contractors and consultants, and their employees, contractors or other personnel for the purpose of conducting scientific research, management audits, financial audits, or program evaluation, provided individual identifiers are not disclosed in any manner, in accordance with the Confidentiality of Alcohol and Drug Abuse Patient Records regulations (42 CFR part 2);

(4) The Department of Justice or other appropriate federal agency in defending claims against the United States when the records are not covered by the Confidentiality of Alcohol and Drug Abuse Patient Records regulations at 42 CFR part 2;

(5) A congressional office in response to an inquiry made at the request of the individual to whom the record pertains;

(6) A court, magistrate, mediator or administrative tribunal in the course of presenting evidence, including disclosures to opposing counsel or witnesses in the course of civil discovery, litigation, or settlement negotiations, in response to a subpoena, or in connection with criminal law proceedings;

(7) A federal, state, or local agency, maintaining civil, criminal or other relevant enforcement information or other pertinent information, which has requested information relevant to or necessary to the requesting agency's or the bureau's hiring or retention of an individual, or issuance of a security clearance, suitability determination, license, contract, grant, or other benefit;

(8) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(9) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach; and

(10) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

These records are retrieved by the name and Social Security number or other assigned identifier of the individual on whom they are maintained.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

When Fiscal Service contracts with an entity for the purpose of providing the EAP functions, the contractor shall be required to maintain Privacy Act of 1974, as amended, safeguards with respect to such records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on August 17, 2011 (76 FR 51128) as the Department of the Treasury, Bureau of the Public Debt .005—Employee Assistance Records.

Treasury/Fiscal Service .007

SYSTEM NAME AND NUMBER:

Department of the Treasury, Bureau of the Fiscal Service .007—Direct Deposit Enrollment Records.

SECURITY CLASSIFICATION:

Information in this system is not classified.

SYSTEM LOCATION:

Federal Reserve Bank of Dallas, acting in its capacity as Treasury's fiscal agent, 2200 North Pearl Street, Dallas, TX 75201.

SYSTEM MANAGER(S):

Chief Disbursing Officer, Assistant Commissioner, Payment Management, Bureau of the Fiscal Service, 3201 Pennsy Drive, Warehouse “E”, Landover, MD 20785.

AUTHORITY FOR MAINTENANCE OF THE SYSTEM:

5 U.S.C. 301; 31 U.S.C. 321; 31 U.S.C. chapter 33; 31 U.S.C. 3332.

PURPOSE(S) OF THE SYSTEM:

Information in this system of records is collected and maintained about individuals who wish to enroll in the Direct Deposit program in order to receive federal payments directly to a bank account or other similar type of account via electronic funds transfer, rather than by paper check.

The records are used to process Direct Deposit enrollment applications that may be received directly by Fiscal Service, its fiscal agents, and/or contractors. The records are collected and maintained to guarantee that Direct Deposit enrollment applications are processed properly to ensure that a recipient's federal payment will be disbursed to the correct account. Without the appropriate information, Fiscal Service, its fiscal agents and contractors, would not be able to process the Direct Deposit enrollment application as requested by the individual authorizing the Direct Deposit.

The information will also be used for collateral purposes related to the processing of Direct Deposit enrollments, such as collection of statistical information on operations, development of computer systems, investigation of unauthorized or fraudulent activity, and the collection of debts arising out of such activity.

CATEGORIES OF INDIVIDUALS COVERED BY THE SYSTEM:

Individuals who enroll with the Fiscal Service to receive federal payments from the Federal Government via an electronic funds transfer program known as “Direct Deposit.”

CATEGORIES OF RECORDS IN THE SYSTEM:

The records may contain identifying information, such as: An individual's name(s), Social Security number, home address, home and work telephone number, and personal email address (home and work); date of birth; bank account(s) and other types of accounts to which payments are made, such as the individual's bank account number and the financial institution routing and transit number; information about an individual's payments received from the United States, including the type of payment received and the federal agency responsible for authorizing the payment; information related to the cancellation or suspension of an individual's Direct Express® debit card ⁴ by Fiscal Service's financial agent; and information provided by an individual regarding a hardship due to a remote geographic location or about his or her inability to manage a bank account or prepaid debit card due to mental impairment.

⁴ Direct Express® is a registered service mark of the Bureau of the Fiscal Service, U.S. Department of the Treasury.

RECORD SOURCE CATEGORIES:

Information in this system is provided by the individual on whom the record is maintained (or by his or her authorized representative), other persons who electronically authorize payments from the Federal Government, federal agencies responsible for authorizing payments, federal agencies responsible for disbursing payments, Treasury financial agents, Treasury fiscal agents that process Direct Deposit enrollment applications, and contractors.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(2) A federal, state, or local agency, maintaining civil, criminal, or other relevant enforcement information or other pertinent information, which has requested information relevant to or necessary to the requesting agency's or the bureau's hiring or retention of an individual, or issuance of a security clearance, suitability determination, license, contract, grant, or other benefit;

(3) Foreign governments in accordance with formal or informal international agreements;

(4) Authorized federal and non-federal entities for use in approved computer matching efforts, limited to those data elements considered necessary in making a determination of eligibility under particular benefit programs administered by those agencies or entities, to improve program integrity, and to collect debts and other monies owed to those agencies or entities or to the Fiscal Service;

(5) A court, magistrate, mediator or administrative tribunal in the course of presenting evidence, including disclosures to opposing counsel or witnesses in the course of civil discovery, litigation, or settlement negotiations, in response to a subpoena, or in connection with criminal law proceedings;

(6) A congressional office in response to an inquiry made at the request of the individual to whom the record pertains;

(7) Fiscal agents, financial agents, financial institutions, and contractors for the purposes of: (a) Processing Direct Deposit enrollment applications, including, but not limited to, processing Direct Deposit enrollment forms and implementing programs related to Direct Deposit; investigating and rectifying possible erroneous information; creating and reviewing statistics to improve the quality of services provided; conducting debt collection services for debts arising from Direct Deposit activities; or developing, testing and enhancing computer systems; and (b) processing waivers from the requirement to receive payments electronically, including, but not limited to, processing automatic waivers and applications for waivers, as well as implementing the waivers; investigating and rectifying possible erroneous information or fraud; creating and reviewing statistics to improve the quality of services provided; or developing, testing and enhancing computer systems;

(8) Federal agencies, their agents, and contractors for the purposes of facilitating the processing of Direct Deposit enrollment applications and the implementation of programs related to Direct Deposit;

(9) Federal agencies, their agents and contractors, credit bureaus, and employers of individuals who owe delinquent debt for the purpose of garnishing wages, only when the debt arises from the unauthorized or improper use of the Direct Deposit program. The information will be used for the purpose of collecting such debt through offset, administrative wage garnishment, referral to private collection agencies, litigation, reporting the debt to credit bureaus, or for any other authorized debt collection purpose;

(10) Financial institutions, including banks and credit unions, for the purpose of disbursing payments and/or investigating the accuracy of information required to complete transactions using Direct Deposit and for administrative purposes, such as resolving questions about a transaction;

(11) Representatives of the National Archives and Records Administration (“NARA”) who are conducting records management inspections under authority of 44 U.S.C. 2904 and 2906;

(12) Third parties during the course of an investigation to the extent necessary to obtain information pertinent to the investigation;

(13) Federal agencies, state agencies, and local agencies for tax purposes;

(14) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(15) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(16) Consumer reporting agencies, as defined by the Fair Credit Reporting Act, 5 U.S.C. 1681(f), to encourage repayment of a delinquent debt; and

(17) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

Records are retrieved by name, Social Security number, telephone number, transaction identification number, or other alpha/numeric identifying information.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on October 15, 2012 (77 FR 62602) as the Department of the Treasury, Financial Management Service .006—Direct Deposit Enrollment Records.

Treasury/Fiscal Service .008

SYSTEM NAME AND NUMBER:

Department of the Treasury, Bureau of the Fiscal Service .008—Mailing List Records.

SECURITY CLASSIFICATION:

Information in this system is not classified.

SYSTEM LOCATION:

Bureau of the Fiscal Service, U.S. Department of the Treasury, 3201 Pennsy Drive, Warehouse “E”, Landover, MD 20785, or its fiscal or financial agents at various locations. The addresses of the fiscal or financial agents may be obtained by contacting the System Manager below.

SYSTEM MANAGER(S):

Chief Disbursing Officer, Assistant Commissioner, Payment Management, Bureau of the Fiscal Service, 3201 Pennsy Drive, Warehouse “E”, Landover, MD 20785.

AUTHORITY FOR MAINTENANCE OF THE SYSTEM:

5 U.S.C. 301; 31 U.S.C. 321; 31 U.S.C. chapter 33; 31 U.S.C. 3332; Title XII of the Dodd-Frank Wall Street Reform and Consumer Protection Act (Pub. L. 111-203, Jul. 21, 2010).

PURPOSE(S) OF THE SYSTEM:

Information in this system of records is collected and maintained about low to moderate income individuals, who are more likely to be unbanked or under-banked, and who could potentially receive federal tax refund payments. The records are used to send letters to individuals informing them of the benefits of electronic payments and Treasury-recommended account options for receiving payments electronically. Without the information, Fiscal Service and its fiscal or financial agents and contractors would not be able to directly notify prospective payment recipients about the benefits of electronic payments and the Treasury-recommended account options for the receipt of federal payments electronically.

The information will also be used to study the effectiveness of offering account options to individuals for the purpose of receiving federal payments. To study program efficacy, Fiscal Service may use its mailing list records to collect aggregate statistical information on the success and benefits of direct mail and the use of commercial database providers.

CATEGORIES OF INDIVIDUALS COVERED BY THE SYSTEM:

Low- to moderate-income individuals, who are more likely to be unbanked or underbanked, who could potentially receive federal tax refund payments, and whose names and addresses are included on mailing lists purchased from commercial providers.

CATEGORIES OF RECORDS IN THE SYSTEM:

The records may contain identifying information, such as an individual's name(s) and address.

RECORD SOURCE CATEGORIES:

Information in this system is provided by commercial database providers based on publicly available information.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) The U.S. Department of Justice (“DOJ”) for its use in providing legal advice to the Department or in representing the Department in a proceeding before a court, adjudicative body, or other administrative body before which the Department is authorized to appear, where the use of such information by the DOJ is deemed by the Department to be relevant and necessary to the litigation, and such proceeding names as a party or interests: (a) The Department or any component thereof; (b) any employee of the Department in his or her official capacity; (c) any employee of the Department in his or her individual capacity where DOJ has agreed to represent the employee; or (d) the United States, where the Department determines that litigation is likely to affect the Department or any of its components;

(2) A congressional office in response to an inquiry made at the request of the individual to whom the record pertains;

(3) Fiscal agents, financial agents, and contractors for the purpose of mailing information to individuals about the benefits of electronic federal payments and Treasury-recommended account options for receipt of federal payments electronically, including, but not limited to, processing direct mail or performing other marketing functions; and creating and reviewing statistics to improve the quality of services provided;

(4) Federal agencies, their agents and contractors for the purposes of implementing and studying options for encouraging current and prospective federal payment recipients to receive their federal payments electronically;

(5) Representatives of the National Archives and Records Administration (“NARA”) who are conducting records management inspections under authority of 44 U.S.C. 2904 and 2906;

(6) A federal, state, or local agency, maintaining civil, criminal or other relevant enforcement information or other pertinent information, which has requested information relevant to or necessary to the requesting agency's or the bureau's hiring or retention of an individual, or issuance of a security clearance, suitability determination, license, contract, grant, or other benefit;

(7) Appropriate federal, state, local or foreign agencies responsible for investigating or prosecuting a violations or enforcing or implementing a statute, rule, regulation, order, or license, when a record, either on its face or in conjunction with other information, indicates a violation or potential violation of law, which includes criminal, civil, or regulatory violations and such disclosure is proper and consistent with the official duties of the person making the disclosure;

(8) A court, magistrate, mediator or administrative tribunal in the course of presenting evidence, including disclosures to opposing counsel or witnesses in the course of civil discovery, litigation, or settlement negotiations, in response to a subpoena, or in connection with criminal law proceedings;

(9) Third parties during the course of an investigation to the extent necessary to obtain information pertinent to the investigation;

(10) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(11) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach; and

(12) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

Records are retrieved by name, address, or other alpha/numeric identifying information.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on October 15, 2012 (77 FR 62602) as the Department of the Treasury, Financial Management Service .008—Mailing List Records.

Treasury/Fiscal Service .009

SYSTEM NAME AND NUMBER:

Department of the Treasury, Bureau of the Fiscal Service .009—Delegations and Designations of Authority for Disbursing Functions

SECURITY CLASSIFICATION:

Information in this system is not classified.

SYSTEM LOCATION:

Kansas City Regional Financial Center, Bureau of the Fiscal Service, U.S. Department of the Treasury, 4241 NE 34th Street, Kansas City, MO 64117.

SYSTEM MANAGER(S):

Chief Disbursing Officer, Assistant Commissioner, Payment Management, Bureau of the Fiscal Service, 3201 Pennsy Drive, Warehouse “E”, Landover, MD 20785.

AUTHORITY FOR MAINTENANCE OF THE SYSTEM:

5 U.S.C. 301; 31 U.S.C. 3321, 3325.

PURPOSE(S) OF THE SYSTEM:

Information in this system of records is collected and maintained from federal agencies that are requesting disbursement of domestic and international payments to its recipients. The information is collected and maintained to ensure that only properly authorized Federal Government personnel are able to engage in the process of disbursing a payment.

CATEGORIES OF INDIVIDUALS COVERED BY THE SYSTEM:

Heads of Agencies, Certifying Officers, designated agents, and other federal employees designated to perform specific disbursement-related functions.

CATEGORIES OF RECORDS IN THE SYSTEM:

Records are maintained on the designation or removal of individuals to act in a specified capacity pursuant to a proper authorization.

RECORD SOURCE CATEGORIES:

Information in this system of records is provided by government departments and agencies requiring services of the Department for issuance and payment of Treasury checks.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Banking institutions, Federal Reserve Banks, and government agencies for verification of information on authority of individuals to determine propriety of actions taken by such individuals;

(2) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(3) A federal, state, or local agency, maintaining civil, criminal or other relevant enforcement information or other pertinent information, which has requested information relevant to or necessary to the requesting agency's or the bureau's hiring or retention of an individual, or issuance of a security clearance, suitability determination, license, contract, grant, or other benefit;

(4) A court, magistrate, mediator or administrative tribunal in the course of presenting evidence, including disclosures to opposing counsel or witnesses in the course of civil discovery, litigation, or settlement negotiations, in response to a subpoena, or in connection with criminal law proceedings;

(5) Foreign governments in accordance with formal or informal international agreements;

(6) A congressional office in response to an inquiry made at the request of the individual to whom the record pertains;

(7) Unions recognized as exclusive bargaining representatives under 5 U.S.C. Chapter 71, arbitrators, and other parties responsible for the administration of the federal labor-management program if needed in the performance of their authorized duties;

(8) Third parties during the course of an investigation to the extent necessary to obtain information pertinent to the investigation;

(9) Contractors for the purpose of processing personnel and administrative records;

(10) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(11) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(12) Representatives of the National Archives and Records Administration (“NARA”) who are conducting records management inspections under authority of 44 U.S.C. 2904 and 2906; and

(13) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

Records may be retrieved by name.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on October 15, 2012 (77 FR 62602) as the Department of the Treasury, Financial Management Service .010—Records of Accountable Officers' Authority With Treasury.

Treasury/Fiscal Service .010

SYSTEM NAME AND NUMBER:

Department of the Treasury, Bureau of the Fiscal Service .010—Pre-complaint Counseling and Complaint Activities.

SECURITY CLASSIFICATION:

Information in this system is not classified.

SYSTEM LOCATION:

Bureau of the Fiscal Service, U.S. Department of the Treasury, 200 Third Street, Parkersburg, WV 26106-1328.

SYSTEM MANAGER(S):

Director, Equal Employment Opportunity & Diversity, Bureau of the Fiscal Service, 200 Third Street, Parkersburg, WV 26106-1328.

AUTHORITY FOR MAINTENANCE OF THE SYSTEM:

5 U.S.C. 7154; 42 U.S.C. 200e-16; Executive Order 11478; and 5 CFR part 713.

PURPOSE(S) OF THE SYSTEM:

The system is used for the investigation of complaints of discrimination on the basis of race, color, national origin, sex, age, retaliation/reprisal and disability. In addition, the system contains case files developed in investigating complaints and in reviewing actions within Fiscal Service to determine if it conducted programs and activities in compliance with the federal laws. The system also contains annual and bi-annual statistical data submitted to and used by the Fiscal Service.

CATEGORIES OF INDIVIDUALS COVERED BY THE SYSTEM:

Employees seeking services of EEO Counselors.

CATEGORIES OF RECORDS IN THE SYSTEM:

Monthly pre-complaint activity reports from all Fiscal Service facilities.

RECORD SOURCE CATEGORIES:

Information in this system of records is provided by monthly submissions by financial centers and headquarters.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) A court, magistrate, mediator or administrative tribunal in the course of presenting evidence, including disclosures to opposing counsel or witnesses in the course of civil discovery, litigation, or settlement negotiations, in response to a subpoena, or in connection with criminal law proceedings;

(2) A congressional office in response to an inquiry made at the request of the individual to whom the record pertains;

(3) Unions recognized as exclusive bargaining representatives under 5 U.S.C. Chapter 71, arbitrators, and other parties responsible for the administration of the federal labor-management program if needed in the performance of their authorized duties;

(4) Third parties during the course of an investigation to the extent necessary to obtain information pertinent to the investigation;

(5) Appropriate federal, state, local, or foreign agencies responsible for investigating or prosecuting a violation or for enforcing or implementing a statute, rule, regulation, order or license, when a record, either on its face or in conjunction with other information, indicates a violation or potential violation of law, which includes criminal, civil, or regulatory violations and such disclosure is proper and consistent with the official duties of the person making the disclosure;

(6) A federal, state, or local agency, maintaining civil, criminal or other relevant enforcement information or other pertinent information, which has requested information relevant to or necessary to the requesting agency's or the bureau's hiring or retention of an individual, or issuance of a security clearance, suitability determination, license, contract, grant, or other benefit;

(7) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(8) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(9) Contractors for the purpose of processing personnel and administrative records; and

(10) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

Records may be retrieved by employee name and date of receipt.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on October 15, 2012 (77 FR 62602) as the Department of the Treasury, Financial Management Service .012—Pre-complaint Counseling and Complaint Activities.

Treasury/Fiscal Service .011

SYSTEM NAME AND NUMBER:

Department of the Treasury, Bureau of the Fiscal Service .011—Gifts to the United States

SECURITY CLASSIFICATION:

Information in this system is not classified.

SYSTEM LOCATION:

Bureau of the Fiscal Service, U.S. Department of the Treasury, 200 Third Street, Parkersburg, WV 26106-1328.

SYSTEM MANAGER(S):

Director, Reporting and Analysis Division, Reporting and Analysis Branch 2, Bureau of the Fiscal Service, 200 Third Street, Parkersburg, WV 26106-1328.

AUTHORITY FOR MAINTENANCE OF THE SYSTEM:

31 U.S.C. 3113.

PURPOSE(S) OF THE SYSTEM:

Information in this system of records is collected and maintained to document donors' gifts to the United States Government.

CATEGORIES OF INDIVIDUALS COVERED BY THE SYSTEM:

Donors of inter vivos and testamentary gifts to the United States.

CATEGORIES OF RECORDS IN THE SYSTEM:

Correspondence, copies of wills and court proceedings, and other material related to gifts to the United States.

RECORD SOURCE CATEGORIES:

Information in this system of records is provided by individuals, executors, administrators and other involved persons.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Fiscal agents, financial agents, financial institutions, and contractors for the purpose of performing fiscal or financial services, including, but not limited to, processing payments, investigating and rectifying possible erroneous reporting information, creating and reviewing statistics to improve the quality of services provided, or developing, testing and enhancing computer systems;

(2) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(3) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(4) Third parties during the course of an investigation to the extent necessary to obtain information pertinent to the investigation;

(5) Representatives of the National Archives and Records Administration (“NARA”) who are conducting records management inspections under authority of 44 U.S.C. 2904 and 2906;

(6) The news media and the public, with the approval of the Chief Privacy Officer in consultation with counsel, when there exists a legitimate public interest in the disclosure of the information, when disclosure is necessary to preserve confidence in the integrity of the Fiscal Service, or when disclosure is necessary to demonstrate the accountability of the Fiscal Service's officers, employees, or individuals covered by the system, except to the extent the Chief Privacy Officer determines that release of the specific information in the context of a particular issue would constitute an unwarranted invasion of personal privacy;

(7) A federal, state, or local agency, maintaining civil, criminal or other relevant enforcement information or other pertinent information, which has requested information relevant to or necessary to the requesting agency's or the bureau's hiring or retention of an individual, or issuance of a security clearance, suitability determination, license, contract, grant, or other benefit;

(8) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(9) A court, magistrate, mediator or administrative tribunal in the course of presenting evidence, including disclosures to opposing counsel or witnesses in the course of civil discovery, litigation, or settlement negotiations, in response to a subpoena, or in connection with criminal law proceedings;

(10) A congressional office in response to an inquiry made at the request of the individual to whom the record pertains;

(11) Authorized federal and non-federal entities for use in approved computer matching efforts, limited to those data elements considered necessary in making a determination of eligibility under particular benefit programs administered by those agencies or entities, to improve program integrity, and to collect debts and other monies owed to those agencies or entities or to the Fiscal Service; and

(12) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

Records may be retrieved by name of donor.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on October 15, 2012 (77 FR 62602) as the Department of the Treasury, Financial Management Service .013—Gifts to the United States.

Treasury/Fiscal Service .012

SYSTEM NAME AND NUMBER:

Department of the Treasury, Bureau of the Fiscal Service .012—Debt Collection Operations System.

SECURITY CLASSIFICATION:

Information in this system is not classified.

SYSTEM LOCATION:

Records are located throughout the United States at Bureau of the Fiscal Service operations centers, Federal Records Centers, Federal Reserve Banks acting as Treasury's fiscal agents, and financial institutions acting as Treasury's financial agents. Addresses may be obtained from system managers.

SYSTEM MANAGER(S):

System Manager, Debt Management Services, Bureau of the Fiscal Service, 3201 Pennsy Drive, Warehouse “E”, Landover, MD 20785.

AUTHORITY FOR MAINTENANCE OF THE SYSTEM:

Federal Claims Collection Act of 1966 (Pub. L. 89-508), as amended by the Debt Collection Act of 1982 (Pub. L. 97-365, as amended); Deficit Reduction Act of 1984 (Pub. L. 98-369, as amended); Debt Collection Improvement Act of 1996 (Pub. L. 104-134, sec. 31001); Taxpayer Relief Act of 1997 (Pub. L. 105-34); Internal Revenue Service Restructuring and Reform Act of 1998 (Pub. L. 105-206); Improper Payments Information Act of 2002 (Pub. L. 107-300); Recovery Audit Act of 2002 (Pub. L. 107-107; Section 831; 115 Stat. 1186); Improper Payments Elimination and Recovery Act of 2010 (Pub. L. 111-204); Improper Payments Elimination and Recovery Improvement Act of 2012 (Pub. L. 112-248); 26 U.S.C. 6402; 26 U.S.C. 6331; 31 U.S.C. chapter 37 (Claims), subchapter I (General) and subchapter II (Claims of the U.S. Government); 31 U.S.C. 3321 note.

PURPOSE(S) OF THE SYSTEM:

The purpose of this system is to maintain records about individuals who owe current receivable(s) or delinquent debt(s) to the United States or to any person for whom the United States is authorized by statute to collect for the benefit of such person, through one or more of its departments or agencies, or to states, including past due support enforced by states. The information contained in the records is maintained for the purpose of taking action to facilitate the collection or resolution of the debt(s) using various methods, including, but not limited to, requesting repayment of the debt orally or in writing; offset or levy of federal or state payments; administrative wage garnishment; referral to collection agencies or for litigation; or other collection or resolution methods authorized or required by law. The information is also maintained for the purpose of providing collection information about the debt to the agency collecting the debt, so that debtors can access information to resolve their debt, and to provide statistical information on debt collection operations. The information is also maintained for the purpose of testing and developing enhancements to: The computer systems which contain the records; and operations or business processes used to collect or resolve debts. The information is also maintained for the purpose of data analysis related to improving government-wide efforts to resolve and/or collect current receivables and delinquent debts owed to federal and/or state agencies. The information is also maintained for the purpose of resolving delinquent debts owed by debtors who are ineligible for federally funded programs until the delinquency is resolved, or for identifying, preventing, or recouping improper payments to individuals who owe obligations to federal and/or state agencies.

CATEGORIES OF INDIVIDUALS COVERED BY THE SYSTEM:

Individuals who may owe current receivables or delinquent debts (collectively “debts”) to: (a) The United States, through one or more of its departments and agencies; or (b) states, territories or commonwealths of the United States, or the District of Columbia (hereinafter collectively referred to as “States”).

CATEGORIES OF RECORDS IN THE SYSTEM:

Debt records containing information about the debtor(s), the type of debt, the governmental entity to which the debt is owed, and the debt collection tools utilized to collect the debt. The records may contain identifying information, such as: (a) Debtor name(s) and taxpayer identifying number(s) (i.e., Social Security number or employer identification number); (b) debtor contact information, such as work and home address, email address, or work, home or cellular telephone numbers; (c) contact information for the debtor's authorized third party representative(s); (d) information concerning the financial status of the debtor and his/her household, including income, assets, liabilities or other financial burdens, and any other resources from which the debt may be recovered; and (e) name of employer or employer contact information. Debts may include taxes, loans, assessments, fines, fees, penalties, overpayments, advances, extensions of credit from sales of goods or services, or other amounts of money or property owed to, or collected by, the Federal Government or a State, including past due support which is being enforced by a State.

The records also may contain information about: (a) The debt, such as the original amount of the debt, the debt account number, the date the debt originated, the amount of the delinquency or default, the date of delinquency or default, basis for the debt, amounts accrued for interest, penalties, and administrative costs, proof of debt documentation, or payments on the account; (b) actions taken to collect or resolve the debt, such as copies of demand letters or invoices, information prepared for the purpose of referring the debt to private collection agencies or the United States Department of Justice, recordings of telephone calls and computer activity related to the collection and resolution of debt, collectors' notes regarding telephone or other communications related to the collection or resolution of the debt, copies of administrative wage garnishment orders, due process notices, hearing requests, and hearing decisions, payment or compromise agreements; (c) other relevant information, including orders for military service, prison records, bankruptcy notices, medical records, or other correspondence with the debtor; and (d) the referring or governmental agency that is collecting or owed the debt, such as name, telephone number, and address of the agency contact.

RECORD SOURCE CATEGORIES:

Information in this system is provided by: The individual on whom the record is maintained; Federal and state agencies to which the debt is owed; Federal agencies and other entities that employ the individual or have information concerning the individual's employment or financial resources; Federal and State agencies issuing payments; collection agencies; locator and asset search companies, credit bureaus, and other database vendors; Federal, State or local agencies furnishing identifying information and/or debtor address information; and/or public documents.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(2) A court, magistrate, mediator or administrative tribunal in the course of presenting evidence, including disclosures to opposing counsel or witnesses in the course of civil discovery, litigation, or settlement negotiations, in response to a subpoena, or in connection with criminal law proceedings;

(3) A congressional office in response to an inquiry made at the request of the individual to whom the record pertains;

(4) Any federal agency, State or local agency, or their agents or contractors, including private collection agencies:

(a) To facilitate the collection of debts through the use of any combination of various debt collection methods required or authorized by law, including, but not limited to:

(i) Request for repayment by telephone or in writing;

(ii) Negotiation of voluntary repayment or compromise agreements;

(iii) Offset or levy of Federal or State payments, which may include the disclosure of information contained in the records for the purpose of providing the debtor with appropriate notice or to otherwise comply with prerequisites, to facilitate voluntary repayment in lieu of offset or levy, to provide information to the debtor to understand what happened to the payment, or to otherwise effectuate the offset or levy process;

(iv) Referral of debts to private collection agencies, to Treasury-designated debt collection centers, or for litigation;

(v) Administrative and court-ordered wage garnishment;

(vi) Debt sales;

(vii) Publication of names and identities of delinquent debtors in the media or other appropriate places; or

(viii) Any other debt collection method authorized by law;

(b) To conduct computerized comparisons to locate Federal or State payments to be made to debtors;

(c) To conduct computerized comparisons to locate employers of, or obtain taxpayer identifying numbers or other information about, an individual for debt collection purposes;

(d) To collect a debt owed to the United States through the offset of payments made by States;

(e) To account or report on the status of debts for which such entity has a legitimate use for the information in the performance of official duties;

(f) For the purpose of denying Federal financial assistance in the form of a loan or loan insurance or guaranty to an individual who owes delinquent debt to the United States or who owes delinquent child support that has been referred to Fiscal Service for collection by administrative offset;

(g) To develop, enhance and/or test database, matching, communications, or other computerized systems which facilitate debt collection processes;

(h) To conduct data analysis which facilitates processes related to the collection or resolution of debts owed to Federal and/or State agencies; or

(i) For any other appropriate debt collection purpose.

(5) The Department of Defense, the U.S. Postal Service, or other Federal agency for the purpose of conducting an authorized computer matching program in compliance with the Privacy Act of 1974, as amended, to identify and locate individuals receiving Federal payments including, but not limited to, salaries, wages, or benefits, which may include the disclosure of information contained in the record(s) for the purpose of requesting voluntary repayment or implementing Federal employee salary offset or other offset procedures;

(6) Unions recognized as exclusive bargaining representatives under 5 U.S.C. Chapter 71, arbitrators, and other parties responsible for the administration of the federal labor-management program if needed in the performance of their authorized duties;

(7) The Department of Justice or other federal agency:

(a) When requested in connection with a legal proceeding, including a pending or threatened legal proceeding; or

(b) To obtain concurrence in a decision to compromise, suspend, or terminate collection action on a debt;

(8) The Internal Revenue Service in connection with reporting income from the cancellation of a debt;

(9) A federal, state, or local agency, maintaining civil, criminal or other relevant enforcement information or other pertinent information, which has requested information relevant to or necessary to the requesting agency's or the bureau's hiring or retention of an individual, or issuance of a security clearance, suitability determination, license, contract, grant, or other benefit;

(10) Any individual or other entity who receives federal or state payments as a joint payee with a debtor for the purpose of providing notice of, and information about, offsets from such federal payments;

(11) Any individual or entity:

(a) To facilitate the collection and/or resolution of debts using any combination of various debt collection methods required or authorized by law, including, but not limited to:

(i) Performing administrative and court-ordered wage garnishment;

(ii) Reporting information to commercial or consumer credit bureaus;

(iii) Conducting asset searches or locating debtors;

(iv) Publishing names and identities of delinquent debtors in the media or other appropriate places; or

(v) Selling debts;

(b) For the purpose of denying federal financial assistance in the form of a loan or loan insurance or guaranty to an individual who owes delinquent debt to the United States or who owes delinquent child support that has been referred to the Fiscal Service for collection by administrative offset; or

(c) For any other appropriate debt collection purpose;

(12) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(13) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(14)(a) A Federal or State agency, its employees, agents (including contractors of its agents) or contractors; (b) fiscal or financial agent designated by the Fiscal Service or other Department of the Treasury bureau or office, including employees, agents or contractors of such agent; or (c) contractor of the Fiscal Service, for the purpose of identifying, preventing, or recouping improper payments to an applicant for, or recipient of, Federal funds, including funds disbursed by a state in a state-administered, Federally funded program; disclosure may be made to conduct computerized comparisons for this purpose;

(15) Consumer reporting agencies (as defined by the Fair Credit Reporting Act, 5 U.S.C. 1681(f)) in accordance with 5 U.S.C. 552a(b)(12) and 31 U.S.C. 3711(e), to encourage repayment of a delinquent debt; and

(16) Representatives of the National Archives and Records Administration (“NARA”) who are conducting records management inspections under authority of 44 U.S.C. 2904 and 2906.

POLICIES AND PRACTICES FOR STORAGE OF RECORDS:

Records in this system are stored electronically, or on paper in secure facilities in a locked drawer behind a locked door.

POLICIES AND PRACTICES FOR RETRIEVAL OF RECORDS:

Records may be retrieved by various combinations of identifiers, including but not limited to name, taxpayer identifying number (i.e., Social Security number or employer identification number), debt account number, offset trace number, payment trace number, telephone number or address.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on October 15, 2012 (77 FR 62602) as the Department of the Treasury, Financial Management Service .014—Debt Collection Operations System.

Treasury/Fiscal Service .013

SYSTEM NAME AND NUMBER:

Department of the Treasury, Bureau of the Fiscal Service .013—Collections Records.

SECURITY CLASSIFICATION:

Information in this system is not classified.

SYSTEM LOCATION:

Bureau of the Fiscal Service, U.S. Department of the Treasury, 3201 Pennsy Drive, Warehouse “E”, Landover, MD 20785. Records are also located throughout the United States at Federal Reserve Banks and financial institutions acting as Treasury's fiscal and financial agents. The addresses of the fiscal and financial agents may be obtained from the system manager below.

SYSTEM MANAGER(S):

Assistant Commissioner, Revenue Collections Management, Bureau of the Fiscal Service, 3201 Pennsy Drive, Warehouse “E”, Landover, MD 20785.

AUTHORITY FOR MAINTENANCE OF THE SYSTEM:

5 U.S.C. 301; 31 U.S.C. 321; 31 U.S.C. chapter 33; 31 U.S.C. 3720.

PURPOSE(S) OF THE SYSTEM:

Information in this system of records is collected and maintained about individuals who electronically authorize payments to the Federal Government. The information contained in the records is maintained for the purpose of facilitating the collection and reporting of receipts from the public to the Federal Government and to minimize the financial risk to the Government and the public of unauthorized use of electronic payment methods. Examples of payment mechanisms authorized electronically include Automated Clearing House (ACH), check conversion, wire transfers, credit and debit cards, or stored value cards. Individuals may authorize payments using paper check conversion or internet-based systems through programs such as “Pay.gov” and “Electronic Federal Taxpayer Payment System” or directly through their financial institution. The information also is maintained to:

(a) Provide collections information to the federal agency collecting the public receipts;

(b) Authenticate the identity of individuals who electronically authorize payments to the Federal Government;

(c) Verify the payment history and eligibility of individuals to electronically authorize payments to the Federal Government;

(d) Provide statistical information on collections operations;

(e) Test and develop enhancements to the computer systems that contain the records; and

(f) Collect debts owed to the Federal Government from individuals when the debt arises from the unauthorized use of electronic payment methods.

Fiscal Service's use of the information contained in the records is necessary to process financial transactions while protecting the government and the public from financial risks that could be associated with electronic transactions. The records are collected and maintained to authenticate payers and their ability to pay, process payments through banking networks, and resolve after-the-fact accounting and reconciliation questions.

In addition, the information contained in the covered records will be used for other purposes related to the processing of financial transactions, such as collection of statistical information on operations, development of computer systems, investigation of unauthorized or fraudulent activity related to electronic transactions, and the collection of debts arising out of such activity.

CATEGORIES OF INDIVIDUALS COVERED BY THE SYSTEM:

Individuals who electronically authorize payments to the Federal Government through the use of communication networks, such as the internet, via means such as ACH, check conversion, wire transfer, credit/debit cards, and/or stored value card.

CATEGORIES OF RECORDS IN THE SYSTEM:

Collections records containing information about individuals who electronically authorize payments to the Federal Government to the extent such records are covered by the Privacy Act of 1974, as amended. The records may contain identifying information, such as: An individual's name(s), taxpayer identifying number (i.e., Social Security number or employer identification number), home address, home telephone number, and email addresses (personal and work); an individual's employer's name, address, telephone number, and email address; an individual's date of birth and driver's license number; information about an individual's bank account(s) and other types of accounts from which payments are made, such as financial institution routing and account number; credit and debit card numbers; information about an individual's payments made to or from the United States (or to other entities such as private contractors for the Federal Government), including the amount, date, status of payments, payment settlement history, and tracking numbers used to locate payment information; user name and password assigned to an individual; other information used to identify and/or authenticate the user of an electronic system to authorize and make payments, such as a unique question and answer chosen by an individual; and information concerning the authority of an individual to use an electronic system (access status) and the individual's historical use of the electronic system. The records also may contain information about the governmental agency to which payment is made and information required by such agency as authorized or required by law.

The information contained in the records covered by Fiscal Service's system of records is necessary to process financial transactions while protecting the government and the public from financial risks that could be associated with electronic transactions. It is noted that the system covers records obtained in connection with various mechanisms that either are used currently or may be used in the future for electronic financial transactions. Not every transaction will require the maintenance of all of the information listed in this section. The categories of records cover the broad spectrum of information that might be connected to various types of transactions.

RECORD SOURCE CATEGORIES:

Information in this system is provided by the individual on whom the record is maintained (or by his or her authorized representative), other persons who electronically authorize payments to the Federal Government, federal agencies responsible for collecting receipts, federal agencies responsible for disbursing and issuing federal payments, Treasury fiscal and financial agents that process collections, and commercial database vendors.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(2) Commercial database vendors for the purposes of authenticating the identity of individuals who electronically authorize payments to the Federal Government, to obtain information on such individuals' payment or check writing history, and for administrative purposes, such as resolving a question about a transaction. For purposes of this notice, the term “commercial database vendors” means vendors who maintain and disclose information from consumer credit, check verification, and address databases;

(3) A court, magistrate, mediator or administrative tribunal in the course of presenting evidence, including disclosures to opposing counsel or witnesses in the course of civil discovery, litigation, or settlement negotiations, in response to a subpoena, or in connection with criminal law proceedings;

(4) A congressional office in response to an inquiry made at the request of the individual to whom the record pertains;

(5) Fiscal agents, financial agents, financial institutions, and contractors for the purpose of performing fiscal or financial services, including, but not limited to, processing payments, investigating and rectifying possible erroneous reporting information, creating and reviewing statistics to improve the quality of services provided, conducting debt collection services, or developing, testing and enhancing computer systems;

(6) Federal agencies, state agencies, and local agencies for tax purposes;

(7) Federal agencies, their agents and contractors, credit bureaus, and employers of individuals who owe delinquent debt for the purpose of garnishing wages only when the debt arises from the unauthorized use of electronic payment methods. The information will be used for the purpose of collecting such debt through offset, administrative wage garnishment, referral to private collection agencies, litigation, reporting the debt to credit bureaus, or for any other authorized debt collection purpose;

(8) Financial institutions, including banks and credit unions, and credit card companies for the purpose of collections and/or investigating the accuracy of information required to complete transactions using electronic methods and for administrative purposes, such as resolving questions about a transaction;

(9) Third parties during the course of an investigation to the extent necessary to obtain information pertinent to the investigation;

(10) Authorized federal and non-federal entities for use in approved computer matching efforts, limited to those data elements considered necessary in making a determination of eligibility under particular benefit programs administered by those agencies or entities, to improve program integrity, and to collect debts and other monies owed to those agencies or entities or to the Fiscal Service;

(11) Unions recognized as exclusive bargaining representatives under 5 U.S.C. Chapter 71, arbitrators, and other parties responsible for the administration of the federal labor-management program if needed in the performance of their authorized duties;

(12) A federal, State, or local agency, maintaining civil, criminal or other relevant enforcement information or other pertinent information, which has requested information relevant to or necessary to the requesting agency's or the bureau's hiring or retention of an individual, or issuance of a security clearance, suitability determination, license, contract, grant, or other benefit;

(13) Foreign governments in accordance with formal or informal international agreements;

(14) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(15) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(16) Representatives of the National Archives and Records Administration (“NARA”) who are conducting records management inspections under authority of 44 U.S.C. 2904 and 2906; and

(17) Agents or contractors who have been engaged to assist the Fiscal Service in the performance of a service related to this system of records and who need to have access to the records in order to perform the activity.

DISCLOSURE TO CONSUMER REPORTING AGENCIES:

Debt information concerning a government claim against a debtor when the debt arises from the unauthorized use of electronic payment methods is also furnished, in accordance with 5 U.S.C. 552a(b)(12) and 31 U.S.C. 3711(e), to consumer reporting agencies, as defined by the Fair Credit Reporting Act, 5 U.S.C. 1681(f), to encourage repayment of a delinquent debt.

POLICIES AND PRACTICES FOR STORAGE OF RECORDS:

Records in this system are stored electronically or on paper in secure facilities in a locked drawer behind a locked door.

POLICIES AND PRACTICES FOR RETRIEVAL OF RECORDS:

Records may be retrieved by account number (such as financial institution account number or credit card account number), name (including an authentication credential, e.g., a user name), Social Security number, transaction identification number, or other alpha/numeric identifying information.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must comply with the rules of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on October 15, 2012 (77 FR 62602) as the Department of the Treasury, Financial Management Service .017—Collections Records.

Treasury/Fiscal Service .014

SYSTEM NAME AND NUMBER:

Department of the Treasury, Bureau of the Fiscal Service .014—United States Securities and Access.

SECURITY CLASSIFICATION:

Information in this system is not classified.

SYSTEM LOCATION:

Bureau of the Fiscal Service, U.S. Department of the Treasury, 200 Third Street, Parkersburg, WV 26106-1328; Bureau of the Fiscal Service, U.S. Department of the Treasury, 3201 Pennsy Drive, Warehouse “E”, Landover, MD 20785; the Federal Reserve Bank of Minneapolis, 90 Hennepin Avenue, Minneapolis, MN 55401; and the Federal Reserve Bank of New York, East Rutherford Operations Center, 100 Orchard Street, East Rutherford, NJ 07073.

SYSTEM MANAGER(S):

Assistant Commissioner, Retail Securities Services, Bureau of the Fiscal Service, 200 Third Street, Parkersburg, WV 26106-1328. For Federal Housing Administration (FHA) Debentures: Assistant Commissioner, Office of Fiscal Accounting Operations, 200 Third Street, Parkersburg, WV 26106-1328.

AUTHORITY FOR MAINTENANCE OF THE SYSTEM:

5 U.S.C. 301; 31 U.S.C. 3101, et seq.

PURPOSE(S) OF THE SYSTEM:

Information in this system of records is collected and used to identify and maintain all account and ownership data, both paper and electronic (internet based), on past and current purchases of Treasury securities. This includes, for example, U.S. Treasury bonds, notes, and bills; adjusted service bonds; armed forces leave bonds; and Federal Housing Administration debentures as well as savings-type securities including savings bonds, savings notes, definitive accrual, current income, and retirement-type savings securities. Information on transactions related to the inquiry and servicing of these Treasury securities is also collected and maintained. The collection of information allows Fiscal Service and its agents to issue and process Treasury securities, make payments, identify owners and their accounts, and other customer service related transactions.

CATEGORIES OF INDIVIDUALS COVERED BY THE SYSTEM:

Present and former owners of, subscribers to, claimants to, persons entitled to, and inquirers concerning United States savings-type securities and interest on securities, for example, United States savings bonds, savings notes, retirement plan bonds, and individual retirement bonds.

Present and former owners of, subscribers to, claimants to, persons entitled to, and inquirers concerning United States Treasury securities (except savings-type securities) and interest on securities and such securities for which the Treasury acts as agents, for example, Treasury bonds, notes, and bills; adjusted service bonds; armed forces leave bonds; and Federal Housing Administration debentures.

Individuals who provide information to create an account for the purchase of United States Treasury securities and savings-type securities through the internet.

CATEGORIES OF RECORDS IN THE SYSTEM:

(1) Issuance: Records relating to registration, issuance, and correspondence in connection with issuance of United States Treasury securities and savings-type securities;

(2) Holdings: Records of accounts for the purchase of United States securities. These records may include ownership and interest activity on registered or recorded United States Treasury securities and savings-type securities;

(3) Transactions (redemptions, payments, reissues, transfers, and exchanges): Records which include securities transaction requests;

(4) Claims: Records including correspondence concerning lost, stolen, destroyed, or mutilated United States Treasury securities and savings-type securities; and

(5) Inquiries: Records of correspondence with individuals who have requested information concerning United States Treasury securities and savings-type securities.

All of the above categories of records include records of FHA debentures in the Fiscal Accounting securities accounting system.

All of the above categories of records include or may include the following types of personal information:

(1) Personal identifiers (name, including previous name used; Social Security number; date of birth; physical and electronic addresses; telephone, fax, and pager numbers); and

(2) Authentication aids (personal identification number, password, account number, shared-secret identifier, digitized signature, or other unique identifier).

RECORD SOURCE CATEGORIES:

Information on records in this system is furnished by the individuals or their authorized representatives as listed in “Categories of Individuals” and issuing agents for securities, is generated within the system itself, or, with their authorization, is derived from other systems of records.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Agents or contractors of the Department for the purpose of administering the public debt of the United States;

(2) Next-of-kin, voluntary guardian, legal representative or successor in interest of a deceased or incapacitated owner of securities and others entitled to the reissue, distribution, or payment for the purpose of assuring equitable and lawful disposition of securities and interest;

(3) Any owner of United States Treasury securities or savings-type securities registered to two or more owners; or to the beneficiary of such securities registered in beneficiary form if acceptable proof of death of the owner is submitted;

(4) Federal agencies, state agencies, and local agencies for tax purposes;

(5) A federal, state, or local agency, maintaining civil, criminal or other relevant enforcement information or other pertinent information, which has requested information relevant to or necessary to the requesting agency's or the bureau's hiring or retention of an individual, or issuance of a security clearance, suitability determination, license, contract, grant, or other benefit;

(6) Foreign governments in accordance with formal or informal international agreements;

(7) The Department of Veterans Affairs and selected veterans' publications for the purpose of locating owners or other persons entitled to undeliverable bonds held in safekeeping by the Department;

(8) The Department of Veterans Affairs when it relates to the holdings of Armed Forces Leave Bonds, to facilitate the redemption or disposition of these securities;

(9) Other federal agencies to effect salary or administrative offset for the purpose of collecting debts;

(10) A consumer-reporting agency, including mailing addresses obtained from the Internal Revenue Service, to obtain credit reports;

(11) A debt collection agency, including mailing addresses obtained from the Internal Revenue Service, for debt collection services;

(12) Contractors conducting Treasury-sponsored surveys, polls, or statistical analyses relating to the marketing or administration of the public debt of the United States;

(13) Appropriate federal, state, local, or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(14) A court, magistrate, mediator or administrative tribunal in the course of presenting evidence, including disclosures to opposing counsel or witnesses in the course of civil discovery, litigation, or settlement negotiations, in response to a subpoena, or in connection with criminal law proceedings;

(15) A congressional office in response to an inquiry made at the request of the individual to whom the record pertains;

(16) Other federal agencies, through computer matching, information on individuals owing debts to the Fiscal Service for the purpose of determining whether the debtor is a federal employee or retiree receiving payments that may be used to collect the debt through administrative or salary offset;

(17) Requesting federal agencies, through computer matching under approved agreements limiting the information to that which is relevant in making a determination of eligibility for federal benefits administered by those agencies, information on holdings of United States Treasury securities and savings-type securities;

(18) Other federal agencies through computer matching, information on individuals with whom the Fiscal Service has lost contact, for the purpose of utilizing letter forwarding services to advise these individuals that they should contact the Fiscal Service about returned payments and/or matured, unredeemed securities;

(19) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(20) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(21) Agents or contractors who have been engaged to assist the Fiscal Service in the performance of a service related to this system of records and who need to have access to the records in order to perform the activity;

(22) “Consumer reporting agencies” ⁵ to aid in the collection of outstanding debts owed to the Federal Government. After the prerequisites of 31 U.S.C. 3711 have been followed, the Fiscal Service may disclose information necessary to establish the identity of the individual responsible for the claim, including name, address, and taxpayer identification number; the amount, status, and history of the claim; and the agency or program under which the claim arose; and

⁵ “Consumer reporting agency” is defined in 31 U.S.C. 3701(a)(3).

(23) Representatives of the National Archives and Records Administration (“NARA”) who are conducting records management inspections under authority of 44 U.S.C. 2904 and 2906.

POLICIES AND PRACTICES FOR STORAGE OF RECORDS:

Records in this system are stored electronically or on paper in secure facilities in a locked drawer behind a locked door.

POLICIES AND PRACTICES FOR RETRIEVAL OF RECORDS:

Information can be retrieved alphabetically by name, address, and period of time the security was issued, by bond serial numbers, other assigned identifier, or, in some cases, numerically by taxpayer identification number. In the case of securities, except Series G savings bonds registered in more than one name, information relating to those securities can be retrieved only by the names, or, in some cases, by the taxpayer identification number of the registrants, primarily the registered owners or first-named co-owners. In the case of gift bonds inscribed with the taxpayer identification number of the purchaser, bonds are retrieved under that number or by bond serial number.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

Appendix of Treasury Retail Securities sites:

This appendix lists the mailing addresses and telephone number of the places that individuals may contact to inquire about their securities accounts maintained in Treasury Direct or the Legacy Holding System. The toll-free telephone number 1-844-284-2676 is used to reach all the locations. Customers may also view information on the TreasuryDirect website at www.TreasuryDirect.gov.

For Series EE and Series I Bonds:

Treasury Retail Securities Services Site, P.O. Box 214, Minneapolis, MN 55480-0214.

For Series HH and Series H Bonds:

Treasury Retail Securities Services Site, P.O. Box 2186, Minneapolis, MN 55480-2816.

For all other Series:

Treasury Retail Securities Services Site, P.O. Box 9150, Minneapolis, MN 55480-9150.

For TreasuryDirect:

Treasury Retail Securities Site, P.O. Box 7015, Minneapolis, MN 55480-9150.

For Legacy Holding System:

Retail Securities Services, Bureau of the Fiscal Service, 200 Third Street, Parkersburg, WV 26106-1328.

For FHA Debentures:

Fiscal Accounting Office, Special Investments Branch, Bureau of the Fiscal Service, P.O. Box 396, 200 Third Street, Parkersburg, WV 26106-1328.

HISTORY:

Notice of this system of records was last published in full in the Federal Register on August 17, 2011 (76 FR 51128) as the Department of the Treasury, Bureau of the Public Debt .002—United States Savings-Type Securities, Department of the Treasury, Bureau of the Public Debt .003—United States Securities (Other than Savings-Type Securities) and Department of the Treasury, Bureau of the Public Debt .008—Retail Treasury Securities Access Application.

Treasury/Fiscal Service .015

SYSTEM NAME AND NUMBER:

Department of the Treasury, Bureau of the Fiscal Service .015—Physical Access Control System.

SECURITY CLASSIFICATION:

Information in this system is not classified.

SYSTEM LOCATION:

All Bureau of the Fiscal Service, U.S. Department of the Treasury, locations.

SYSTEM MANAGER(S):

Assistant Commissioner, Information and Security Services, Bureau of the Fiscal Service, 320 Avery Street, Parkersburg, WV 26106-1328.

AUTHORITY FOR MAINTENANCE OF THE SYSTEM:

31 U.S.C. 321; 41 CFR 101-20.103.

PURPOSE(S) OF THE SYSTEM:

Information in this system of records is collected and maintained to allow the Fiscal Service to control and verify access to all Fiscal Service facilities.

CATEGORIES OF INDIVIDUALS COVERED BY THE SYSTEM:

All Fiscal Service employees, employees of contractors or service companies, and visitors.

CATEGORIES OF RECORDS IN THE SYSTEM:

Every individual with access to Fiscal Service facilities controlled by the Physical Access Control System (“PACS”) has a personal record stored in the PACS database. This record contains the individual's full legal name, date of birth, height, weight, eye/hair color, digital color photograph, federal agency smart credential number, and their door access profile. When an access card is presented at a reader, a record of the access is created on the PACS database. This record contains the individual's name, date/time, door/location scanned, and whether the access was granted or denied.

RECORD SOURCE CATEGORIES:

Information in this system of records is provided by the individual concerned, his/her supervisor, or an official of the individual's firm or agency.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Appropriate federal, state, local, or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(2) A federal, state, or local agency maintaining civil, criminal or other relevant enforcement information or other pertinent information, which has requested information relevant to or necessary to the requesting agency's or the bureau's hiring or retention of an individual, or issuance of a security clearance, suitability determination, license, contract, grant, or other benefit;

(3) A court, magistrate, mediator or administrative tribunal in the course of presenting evidence, including disclosures to opposing counsel or witnesses in the course of civil discovery, litigation, or settlement negotiations, in response to a subpoena, or in connection with criminal law proceedings;

(4) A congressional office in response to an inquiry made at the request of the individual to whom the record pertains;

(5) Unions recognized as exclusive bargaining representatives under 5 U.S.C. Chapter 71, arbitrators, and other parties responsible for the administration of the federal labor-management program if needed in the performance of their authorized duties;

(6) Contractors for the purpose of processing personnel and administrative records;

(7) Third parties during the course of an investigation to the extent necessary to obtain information pertinent to the investigation;

(8) The Office of Personnel Management, the Merit System Protection Board, the Equal Employment Opportunity Commission, and the Federal Labor Relations Authority upon authorized request;

(9) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(10) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(11) Representatives of the National Archives and Records Administration (“NARA”) who are conducting records management inspections under authority of 44 U.S.C. 2904 and 2906; and

(12) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

Information on individuals can be retrieved by name or card number or other assigned identifier such as biometric or biographic information.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on August 17, 2011 (76 FR 51128) as the Department of the Treasury, Bureau of the Public Debt .004—Controlled Access Security System.

Treasury/Fiscal Service .016

SYSTEM NAME AND NUMBER:

Department of the Treasury, Bureau of the Fiscal Service .016—Health Unit Records

SECURITY CLASSIFICATION:

Information in this system is not classified.

SYSTEM LOCATION:

Bureau of the Fiscal Service, U.S. Department of the Treasury, 200 Third Street, Parkersburg, WV 26106-1328; Bureau of the Fiscal Service, U.S. Department of the Treasury, 320 Avery Street, Parkersburg, WV 26106-1328; and Bureau of the Fiscal Service, U.S. Department of the Treasury, 3201 Pennsy Drive, Warehouse “E”, Landover, MD 20785.

SYSTEM MANAGER(S):

Assistant Commissioner, Office of Management, Bureau of the Fiscal Service, 3201 Pennsy Drive, Warehouse “E”, Landover, MD 20785.

AUTHORITY FOR MAINTENANCE OF THE SYSTEM:

5 U.S.C. 7901; 29 U.S.C. 2613.

PURPOSE(S) OF THE SYSTEM:

Information in this system of records is collected and maintained to document an individual's utilization on a voluntary basis of health services provided under the Federal Employee Health Services Program at the health unit at the Fiscal Service and to document employees' requests for Family Medical Leave Act (“FMLA”) leave in Parkersburg, West Virginia or Hyattsville, Maryland. Data is necessary to ensure: Proper evaluation, diagnosis, treatment, and referral to maintain continuity of care; a medical history of care received by the individual; planning for further care of the individual; a means of communication among health care members who contribute to the individual's care; a legal document of health care rendered; and is a tool for evaluating the quality of health care rendered; and for assessing employees' requests for FMLA leave.

CATEGORIES OF INDIVIDUALS COVERED BY THE SYSTEM:

(1) Fiscal Service employees who receive services under the Federal Employee Health Services Program from the Fiscal Service health units in Parkersburg, West Virginia or Hyattsville, MD, or who submit medical documentation in support of their requests for sick leave or leave under the FMLA;

(2) Federal employees of other organizations who receive services under the Federal Employee Health Services Program from the Fiscal Service health units in Parkersburg, West Virginia or Hyattsville, Maryland; and

(3) Non-federal individuals working in or visiting the buildings, who may receive emergency treatment from the Fiscal Service health unit in Parkersburg, West Virginia or Hyattsville, Maryland.

CATEGORIES OF RECORDS IN THE SYSTEM:

This system is comprised of records developed as a result of an individual's utilization of services provided under the Federal Employee Health Services Program or provided in support of employees' requests for FMLA leave. These records contain information such as: Examination, diagnostic, assessment and treatment data; laboratory findings; nutrition and dietetic files; nursing notes; immunization records; CPR training; first aider: Names, Social Security number, date of birth, addresses, and telephone numbers of individual; name, address, and telephone number of individual's physician; name, address, and telephone number of hospital; name, address, and telephone number of emergency contact; and information obtained from the individual's physician(s); medical documents related to employees' requests for FMLA leave, and record of requested accesses by any Fiscal Service employee (other than health unit personnel) who has an official need for the information.

Note: This system does not cover records related to counseling for drug, alcohol, or other problems covered by the system of records notice Treasury/Fiscal Service .006—Employee Assistance Records. Medical records relating to a condition of employment or an on-the-job occurrence are covered by the Office of Personnel Management's system of records notice OPM/GOVT-10—Employee Medical File System Records.

RECORD SOURCE CATEGORIES:

Information in this system of records comes from the individual to whom it applies; laboratory reports and test results; health unit physicians, nurses, and other medical technicians who have examined, tested, or treated the individual; the individual's personal physician; other federal employee health units; and other federal agencies.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Medical personnel under a contract agreement with the Fiscal Service;

(2) A federal, state, or local public health service agency as required by applicable law, concerning individuals who have contracted certain communicable diseases or conditions. Such information is used to prevent further outbreak of the disease or condition;

(3) Appropriate federal, state, or local agencies responsible for investigation of an accident, disease, medical condition, or injury as required by pertinent legal authority;

(4) A federal agency responsible for administering benefits programs in connection with a claim for benefits filed by an employee;

(5) A congressional office in response to an inquiry made at the request of the individual to whom the record pertains;

(6) A court, magistrate, mediator or administrative tribunal in the course of presenting evidence, including disclosures to opposing counsel or witnesses in the course of civil discovery, litigation, or settlement negotiations, in response to a subpoena, or in connection with criminal law proceedings;

(7) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(8) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(9) Fiscal Service employees who have a need to know the information in order to assess employees' requests for FMLA leave;

(10) Representatives of the National Archives and Records Administration (“NARA”) who are conducting records management inspections under authority of 44 U.S.C. 2904 and 2906;

(11) Contractors for the purpose of processing personnel and administrative records; and

(12) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

These records are retrieved by the name or other assigned identifier of the individual to whom they pertain.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in a secured database. Medical personnel under a contract agreement who have access to these records are required to maintain adequate safeguards with respect to such records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM

None.

HISTORY:

Notice of this system of records was last published in full in the Federal Register on August 17, 2011 (76 FR 51128) as the Department of the Treasury, Bureau of the Public Debt .006—Health Service Program Records.

Treasury/Fiscal Service .017

SYSTEM NAME AND NUMBER:

Department of the Treasury, Bureau of the Fiscal Service .017—Do Not Pay Payment Verification Records.

SECURITY CLASSIFICATION:

Information in this system is not classified.

SYSTEM LOCATION:

Bureau of the Fiscal Service, U.S. Department of the Treasury, 3201 Pennsy Drive, Warehouse “E”, Landover, MD 20785. Records are also located throughout the United States at Fiscal Service operations centers, Federal Records Centers, Federal Reserve Banks acting as Treasury's fiscal agents, and financial institutions acting as Treasury's financial agents. The specific address for each of the aforementioned locations may be obtained upon request.

SYSTEM MANAGER(S):

Director, Do Not Pay Business Center, Bureau of the Fiscal Service, 3201 Pennsy Drive, Warehouse “E”, Landover, MD 20785.

AUTHORITY FOR MAINTENANCE OF THE SYSTEM:

Improper Payments Elimination and Recovery Improvement Act of 2012, 31 U.S.C. 3321 note, Public Law 112-248; the Improper Payments Elimination and Recovery Act of 2010, Public Law 111-204; E.O. 13520 (Reducing Improper Payments and Eliminating Waste in Federal Programs), 74 FR 62201; OMB Memorandum M-12-11 (Reducing Improper Payment through the “Do Not Pay List”, April 12, 2012; OMB Memorandum M-13-20 (Protecting Privacy while Reducing Improper Payments with the Do Not Pay Initiative); Presidential Memorandum on Enhancing Payment Accuracy through a “Do Not Pay List” (June 18, 2010).

PURPOSE(S) OF THE SYSTEM:

Information in this system of records is collected and maintained to assist federal agencies in verifying that individuals are eligible to receive federal payments by allowing the Department of the Treasury/Fiscal Service to collect, maintain, analyze, and disclose records that will assist federal agencies in identifying, preventing, and recovering payment error, waste, fraud, and abuse within federal spending, as required by the Improper Payments Elimination and Recovery Improvement Act.

CATEGORIES OF INDIVIDUALS COVERED BY THE SYSTEM:

(1) Individuals who have applied for or are receiving payments (including contract, grant, benefit or loan payments) disbursed by any federal agency, its agents or contractors;

(2) Individuals declared ineligible to participate in federal procurement programs or to receive certain federal loans, assistance, and/or benefits as a result of an exclusion or disqualification action;

(3) Individuals declared ineligible to participate in federal health care programs or to receive federal assistance and/or benefits as a result of an exclusion action;

(4) Individuals who are barred from entering the United States;

(5) Individuals in bankruptcy proceedings or individuals who have declared bankruptcy;

(6) Individuals who are, or have been, incarcerated and/or imprisoned;

(7) Individuals who are in default or delinquent status on loans, judgment debt, or rural development and farm services programs provided through federal agencies responsible for administering federally-funded programs;

(8) Individuals who owe non-tax debts to the United States;

(9) Individuals who owe debts to states, where the state has submitted the debt to the Fiscal Service for offset; and

(10) Individuals conducting, or attempting to conduct, transactions at or through a financial institution where the financial institution has identified, knows, suspects, or has reason to suspect that: (a) The transaction involves funds originating from illegal activities; (b) the purpose of the transaction is to hide or disguise funds or assets, or attempt to hide or disguise funds or assets, originating from illegal activities as part of a plan to violate or evade any law or regulation or to avoid any transaction reporting requirement under federal law; or (c) the transaction is illegal in nature or is not the type of transaction in which the particular individual would normally be expected to engage, and the financial institution knows of no reasonable explanation for the transaction after examining the available facts, including the background and possible purpose of the transaction.

CATEGORIES OF RECORDS IN THE SYSTEM:

The records in this system contain information that will assist federal agencies to identify and prevent payment error, waste, fraud, and abuse within federal spending. The records contain information about intended or actual payees or recipients of federal payments, including information about financial assets, including income, wages, and bank accounts into which payments are made, and other information to assist federal agencies in making eligibility determinations regarding applicants for and recipients of payments from the Federal Government.

The records may contain the following information:

(1) Name(s), including aliases and surnames;

(2) State and federal taxpayer identification number (TIN), Social Security number (SSN), employer identification number (EIN), individual taxpayer identification number (ITIN), taxpayer identification number for pending U.S. adoptions (ATIN), and preparer taxpayer identification number (PTIN));

(3) Date of birth;

(4) Home and work address;

(5) Driver's license information and other information about licenses issued to an individual by a governmental entity;

(6) Home, work, and mobile telephone numbers;

(7) Personal and work email addresses;

(8) Income;

(9) Employer information;

(10) Assets and bank account information, including account number and financial institution routing and transit number;

(11) Other types of accounts to which payments are made, including account numbers and identifiers (e.g., financial institution routing number, account number, credit card number, and information related to pre-paid debit cards);

(12) Tracking numbers used to locate payment information;

(13) Loan information, such as borrower identification (“ID”) number and ID type, case number, agency code, and type code;

(14) Incarceration information, such as inmate status code, date of conviction, date of confinement, and release date;

(15) Information about legal judgments;

(16) Data Universal Numbering System (“DUNS”) numbers;

(17) Information about non-tax debts owed to the United States; and

(18) Information about debts owed to state agencies.

RECORD SOURCE CATEGORIES:

Information in this system is provided by the individual (or an authorized representative) to whom the record pertains, federal agencies that authorize payments or issue payments with federal funds, Treasury fiscal and financial agents who work with data in this system, and commercial database vendors. The system may contain information about an individual from more than one source, and this information may vary, depending on the source that provided it.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows: ⁶

⁶ This system contains records that are collected by the Fiscal Service and other federal agencies. Notwithstanding the routine uses listed in this system of records, Federal law may further limit how records may be used, and the Fiscal Service may agree to additional limits on disclosure for some data through a written agreement with the entity that supplied the information. As such, the routine uses listed in this system of records may not apply to every data set in the system. To identify which routine uses apply to specific data sets, visit https://fiscal.treasury.gov/dnp/privacy-program.html.

(1) (a) A federal agency, its employees, agents (including contractors of its agents) or contractors; (b) a fiscal or financial agent designated by the Fiscal Service, its predecessors, or other Department bureau or office, including employees, agents or contractors of such agent; or (c) a Fiscal Service contractor, for the purpose of identifying, preventing, or recouping improper payments to an applicant for, or recipient of, federal funds;

(2) A congressional office in response to an inquiry made at the request of the individual to whom the record pertains;

(3) (a) a federal agency, its employees, agents (including contractors of its agents) or contractors; (b) a fiscal or financial agent designated by the Fiscal Service, its predecessors, or other Department bureau or office, including employees, agents or contractors of such agent; or (c) a Fiscal Service contractor, to initiate an investigation, or during the course of an investigation, and to the extent necessary, obtain information supporting an investigation pertinent to the elimination of systemic fraud, waste, and abuse within federal programs;

(4) (a) a federal agency, its employees, agents (including contractors of its agents) or contractors; (b) a fiscal or financial agent designated by the Fiscal Service, its predecessors, or other Department bureau or office, including employees, agents or contractors of such agent; or (c) a Fiscal Service contractor for the purpose of validating eligibility for an award through a federal program;

(5) (a) a federal agency, its employees, agents (including contractors of its agents) or contractors; (b) a fiscal or financial agent designated by the Fiscal Service, its predecessors, or other Department bureau or office, including employees, agents or contractors of such agent; or (c) a Fiscal Service contractor to check or improve the quality and accuracy of system records;

(6) Financial institutions and their servicers in order to: (a) verify the proper routing and delivery of any federal payment; (b) verify the identity of any recipient or intended recipient of a federal payment; or (c) investigate or pursue recovery of any improper payment;

(7) Foreign governments in accordance with formal or informal international agreements;

(8) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(9) A federal, state, or local agency, maintaining civil, criminal or other relevant enforcement information or other pertinent information, which has requested information relevant to or necessary to the requesting agency's or the bureau's hiring or retention of an individual, or issuance of a security clearance, suitability determination, license, contract, grant, or other benefit;

(10) A court, magistrate, mediator or administrative tribunal in the course of presenting evidence, including disclosures to opposing counsel or witnesses in the course of civil discovery, litigation, or settlement negotiations, in response to a subpoena, or in connection with criminal law proceedings;

(11) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(12) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(13) Representatives of the National Archives and Records Administration (“NARA”) who are conducting records management inspections under authority of 44 U.S.C. 2904 and 2906; and

(14) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

Records may be retrieved by identifiers, including, but not limited to, exact name, partial name, SSN, TIN, EIN, DUNS numbers, or a combination of these elements.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

The Fiscal Service may agree to additional safeguards for some data through a written agreement with the entity supplying the data. Information on additional safeguards can be found at https://donotpay.treas.gov.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on December 9, 2013 (78 FR 73923) as the Department of the Treasury, Bureau of the Fiscal Service .023—Do Not Pay Payment Verification Records.

Treasury/Fiscal Service .018

SYSTEM NAME AND NUMBER:

Department of the Treasury, Bureau of the Fiscal Service .018—OneVoice Customer Relationship Management.

SECURITY CLASSIFICATION:

Information in this system is not classified.

SYSTEM LOCATION:

Bureau of the Fiscal Service, U.S. Department of the Treasury, 3201 Pennsy Drive, Warehouse “E”, Landover, MD 20785. Records are also located throughout the United States at data centers operated by Fiscal Service service providers.

SYSTEM MANAGER(S):

Director, Office of Agency Outreach, Bureau of the Fiscal Service, 3201 Pennsy Drive, Warehouse “E”, Landover, MD 20785.

AUTHORITY FOR MAINTENANCE OF THE SYSTEM:

5 U.S.C. 301.

PURPOSES(S) OF THE SYSTEM:

The purpose of this system of records is to establish a customer relationship management (“CRM”) tool within the Fiscal Service. An enterprise-wide CRM tool is necessary to strategically promote, share, and guide the organization in developing processes for marketing, messaging, outreach, engagement and consistent product and service implementations. In addition, this system will increase transparency; improve outreach, communications, and collaboration efforts with our customers and vendors; and employ sound, repeatable methodologies.

CATEGORIES OF INDIVIDUALS COVERED BY THE SYSTEM:

Sole proprietors and other entities, which provide goods and/or services to the Fiscal Service (“Vendors”); and individuals representing agencies that purchase goods and/or services through the Fiscal Service (“Clients”).

CATEGORIES OF RECORDS IN THE SYSTEM:

(1) Client's or Vendor's name;

(2) Agency or organization identifier (if applicable);

(3) Position information (title and expertise area);

(4) Phone and fax numbers;

(5) Email addresses; and

(6) Physical work address.

RECORD SOURCE CATEGORIES:

Records are obtained directly from clients and vendors and added to the system by authorized Fiscal Service employees, contractors, and fiscal or financial agents.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) A federal, state, or local agency, maintaining civil, criminal, or other relevant enforcement information or other pertinent information, which has requested information relevant to or necessary to the requesting agency's or the bureau's hiring or retention of an individual, or issuance of a security clearance, suitability determination, license, contract, grant, or other benefit;

(2) A congressional office in response to an inquiry made at the request of the individual to whom the record pertains;

(3) A court, magistrate, mediator or administrative tribunal in the course of presenting evidence, including disclosures to opposing counsel or witnesses in the course of civil discovery, litigation, or settlement negotiations, in response to a subpoena, or in connection with criminal law proceedings;

(4) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(5) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(6) Representatives of the National Archives and Records Administration (“NARA”) who are conducting records management inspections under the authority of 44 U.S.C. 2904 and 2906;

(7) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(8) Foreign governments in accordance with formal or informal international agreements; and

(9) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

Records may be retrieved by name, address, or other alpha/numeric identifying information.

POLICIES AND PROCEDURES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, which are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on September 19, 2014 (79 FR 56433) as the Department of the Treasury, Bureau of the Fiscal Service .024—OneVoice Customer Relationship Management.

Treasury/Fiscal Service .019

SYSTEM NAME AND NUMBER:

Department of the Treasury, Bureau of the Fiscal Service .019—Gifts to Reduce the Public Debt.

SECURITY CLASSIFICATION:

Information in this system is not classified.

SYSTEM LOCATION:

Bureau of the Fiscal Service, U.S. Department of the Treasury, 200 Third Street, Parkersburg, WV 26106-1328.

SYSTEM MANAGER(S):

Assistant Commissioner, Office of Retail Securities Services, Division of Securities Accounting, Bureau of the Fiscal Service, 200 Third Street, Parkersburg, WV 26106-1328.

AUTHORITY FOR MAINTENANCE OF THE SYSTEM:

31 U.S.C. 3113.

PURPOSE(S) OF THE SYSTEM:

Information in this system of records is collected and maintained to document donors' gifts to reduce the public debt. They provide a record of correspondence between Fiscal Service and the donor, information concerning any legal matters, and a record of depositing the gift and accounting for it.

CATEGORIES OF INDIVIDUALS COVERED BY THE SYSTEM:

Donors of gifts to reduce the public debt.

CATEGORIES OF RECORDS IN THE SYSTEM:

Correspondence; copies of checks, money orders, or other payments; copies of wills and other legal documents; and other material related to gifts to reduce the public debt by the Bureau of the Fiscal Service.

Note: This system of records does not cover gifts sent to other agencies, such as gifts sent with one's federal income tax return to the Internal Revenue Service. It also does not include records pertaining to gifts of tangible property, nor does it include any other gifts to the United States.

RECORD SOURCE CATEGORIES:

Information in this system of records comes from the individual to whom it applies, executors, administrators, and other involved persons.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) Appropriate federal, state, local, or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(2) A court, magistrate, mediator or administrative tribunal in the course of presenting evidence, including disclosures to opposing counsel or witnesses in the course of civil discovery, litigation, or settlement negotiations, in response to a subpoena, or in connection with criminal law proceedings;

(3) A congressional office in response to an inquiry made at the request of the individual to whom the record pertains;

(4) Agents or contractors of the Department for the purpose of administering the public debt of the United States;

(5) A federal, state, or local agency, maintaining civil, criminal or other relevant enforcement information or other pertinent information, which has requested information relevant to or necessary to the requesting agency's or the bureau's hiring or retention of an individual, or issuance of a security clearance, suitability determination, license, contract, grant, or other benefit;

(6) The Internal Revenue Service for the purpose of confirming whether a tax-deductible event has occurred;

(7) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(8) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(9) Third parties during the course of an investigation to the extent necessary to obtain information pertinent to the investigation;

(10) Representatives of the National Archives and Records Administration (“NARA”) who are conducting records management inspections under authority of 44 U.S.C. 2904 and 2906; and

(11) Agents or contractors who have been engaged to assist the Fiscal Service in the performance of a service related to this system of records and who need to have access to the records in order to perform the activity.

POLICIES AND PRACTICES FOR STORAGE OF RECORDS:

Records in this system are stored electronically or on paper in secure facilities in a locked drawer behind a locked door.

POLICIES AND PRACTICES FOR RETRIEVAL OF RECORDS:

These records are retrieved by the name of the donor, amount of gift, type of gift, date of gift, Social Security number of donor, if provided, control number, check number, state code, or other assigned identifier.

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, that are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

None.

HISTORY:

Notice of this system of records was last published in full in the Federal Register on August 17, 2011 (76 FR 51128) as the Department of the Treasury, Bureau of the Public Debt .007—Gifts to Reduce the Public Debt.

Treasury/Fiscal Service .020

SYSTEM NAME AND NUMBER:

Department of the Treasury, Bureau of the Fiscal Service .020—U.S. Treasury Securities Fraud Information System.

SECURITY CLASSIFICATION:

Information in this system is not classified.

SYSTEM LOCATION:

Bureau of the Fiscal Service, U.S. Department of the Treasury, 200 Third Street, Parkersburg, WV 26106-1328; Bureau of the Fiscal Service, U.S. Department of the Treasury, 3201 Pennsy Drive, Warehouse “E”, Landover, MD 20785. This system also covers the Fiscal Service records that are maintained by contractor(s) under agreement. The system manager maintains the system location of these records. The addresses of the contractor(s) may be obtained from the system manager below.

SYSTEM MANAGER(S):

(1) Assistant Commissioner, Office of Information Technology, Bureau of the Fiscal Service, 200 Third Street, Parkersburg, WV 26106-1328;

(2) Assistant Commissioner, Retail Securities Services, Bureau of the Fiscal Service, 200 Third Street, Parkersburg, WV 26106-1328; and

(3) Office of the Chief Counsel, Bureau of the Fiscal Service, 200 Third Street, Parkersburg, WV 26106-1328.

AUTHORITY FOR MAINTENANCE OF THE SYSTEM

31 U.S.C. 321(a)(5), 31 U.S.C. 333, 31 U.S.C. 3101, et seq. 31 U.S.C. 5318, and 5 U.S.C. 301.

PURPOSE(S) OF THE SYSTEM:

Information in this system of records is collected and maintained to: (1) Identify and monitor fraudulent and suspicious activity related to Treasury securities, other U.S. obligations, and fictitious instruments; (2) ensure that the Fiscal Service provides a timely and appropriate notification of a possible violation of law to law enforcement and regulatory agencies; (3) protect the Government and individuals from fraud and loss; (4) prevent the misuse of Treasury names and symbols on fraudulent instruments; and (5) compile summary reports that conform with the spirit of the USA Patriot Act's anti-terrorism financing provisions and the Bank Secrecy Act's anti-money laundering provisions, and submit the reports to the Financial Crimes Enforcement Network.

CATEGORIES OF INDIVIDUALS COVERED BY THE SYSTEM:

Individuals under investigation or who make inquiries or report fraudulent or suspicious activities related to Treasury securities and other U.S. obligations.

CATEGORIES OF RECORDS IN THE SYSTEM:

The types of personal information collected/used by this system are necessary to ensure the accurate identification of individuals who report or make fraudulent transactions involving Treasury securities, other U.S. obligations, and fictitious instruments. The types of personal information potentially could include the following:

(1) Personal identifiers (name, including previous name used, and aliases; Social Security number; tax identification number; physical and electronic addresses; telephone, fax, and pager numbers); and

(2) Authentication aids (personal identification number, password, account number, credit card number, shared-secret identifier, digitized signature, or other unique identifier).

Supporting records may contain correspondence between the Fiscal Service and the entity or individual suspected of fraud or individual submitting a complaint or inquiry, correspondence between the Fiscal Service and the Department, or correspondence between the Fiscal Service and law enforcement, regulatory bodies, or other third parties.

RECORD SOURCE CATEGORIES:

Information in this system of records is exempt from the Privacy Act provision that requires that record source categories be reported. (See “Exemptions Promulgated for the System,” below.)

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows to:

(1) A congressional office in response to an inquiry made at the request of the individual to whom the record pertains;

(2) Appropriate federal, state, local or foreign agencies responsible for investigating or prosecuting a violation or for enforcing or implementing a statute, rule, regulation, order, or license, when a record, either on its face or in conjunction with other information, indicates a violation or potential violation of law, which includes criminal, civil, or regulatory violations and such disclosure is proper and consistent with the official duties of the person making the disclosure;

(3) A federal, state, or local agency, maintaining civil, criminal or other relevant enforcement information or other pertinent information, which has requested information relevant to or necessary to the requesting agency's or the bureau's hiring or retention of an individual, or issuance of a security clearance, suitability determination, license, contract, grant, or other benefit;

(4) A court, magistrate, mediator or administrative tribunal in the course of presenting evidence, including disclosures to opposing counsel or witnesses in the course of civil discovery, litigation, or settlement negotiations, in response to a subpoena, or in connection with criminal law proceedings;

(5) Third parties during the course of an investigation to the extent necessary to obtain information pertinent to the investigation;

(6) Agents or contractors who have been engaged to assist the Fiscal Service in the performance of a service related to this system of records and who need to have access to the records in order to perform the activity;

(7) Appropriate agencies, entities, and person when (1) the Department of the Treasury and/or Fiscal Service suspects or has confirmed that there has been a breach of the system of records; (2) the Department of the Treasury and/or Fiscal Service has determined that as a result of the suspected or confirmed breach there is a risk of harm to individuals, the Department of the Treasury and/or Fiscal Service (including its information systems, programs, and operations), the Federal Government, or national security; and (3) the disclosure made to such agencies, entities, and persons is reasonably necessary to assist in connection with the Department of the Treasury's and/or Fiscal Service's efforts to respond to the suspected or confirmed breach or to prevent, minimize, or remedy such harm;

(8) Another Federal agency or Federal entity, when the Department of the Treasury and/or Fiscal Service determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach; and

(9) Representatives of the National Archives and Records Administration (“NARA”) who are conducting records management inspections under authority of 44 U.S.C. 2904 and 2906.

POLICIES AND PRACTICES FOR STORAGE OF RECORDS:

Records in this system are stored electronically or on paper in secure facilities in a locked drawer behind a locked door.

POLICIES AND PRACTICES FOR RETRIEVAL OF RECORDS:

Records may be retrieved by (name, alias name, Social Security number, tax identification number, account number, or other unique identifier).

POLICIES AND PRACTICES FOR RETENTION AND DISPOSAL OF RECORDS:

All data maintained by this Fiscal Service system of records are retained and destroyed in accordance with the Fiscal Service File Plan. All records schedules and categories within the Fiscal Service File Plan are approved by NARA.

ADMINISTRATIVE, TECHNICAL, AND PHYSICAL SAFEGUARDS:

These records are maintained in controlled access areas. Identification cards are verified to ensure that only authorized personnel are present. Electronic records are protected by restricted access procedures, including the use of passwords and sign-on protocols, that are periodically changed. Only employees whose official duties require access are allowed to view, administer, and control these records. Copies of records maintained on a computer have the same limited access as paper records.

RECORD ACCESS PROCEDURES:

Individuals requesting information under the Privacy Act must follow the procedures set forth in the regulations of the U.S. Department of the Treasury published in 31 CFR part 1, subpart C, Appendix G.

CONTESTING RECORD PROCEDURES:

Individuals seeking to contest and/or amend records under the Privacy Act must follow the procedures set forth in the regulations of the U.S. Department of the Treasury published in 31 CFR part 1, subpart C, Appendix G.

NOTIFICATION PROCEDURES:

Individuals seeking to be notified if this system of record contains a record pertaining to himself or herself must follow the procedures set forth in the regulations of the U.S. Department of the Treasury published in 31 CFR part 1, subpart C, Appendix G.

EXEMPTIONS PROMULGATED FOR THE SYSTEM:

Records maintained in this system have been designated as exempt from 5 U.S.C. 552a(c)(3), (d)(1), (2), (3), and (4), (e)(1), (e)(4)(G), (H), and (I), and (f) pursuant to 5 U.S.C. 552a(k)(2). See 31 CFR 1.36.⁷

⁷ As noted in the Supplementary Information section, this SORN is the successor to BPD SORN .009 (U.S. Treasuries Securities Fraud Information System). Therefore, references to BPD .009 in 31 CFR part 1 should be construed as a reference to this SORN.

HISTORY:

Notice of this system of records was last published in full in the Federal Register on August 17, 2011 (76 FR 51128) as the Department of the Treasury, Bureau of the Public Debt .009—U.S. Treasury Securities Fraud Information System.

[FR Doc. 2020-03969 Filed 2-26-20; 8:45 am]

BILLING CODE 4810-35-P